POSTAL SERVICE

39 CFR Part 111

New Mailing Standards for Domestic Mailing Services Products

AGENCY: Postal Service.

ACTION: Final rule.

SUMMARY: On April 9, 2025, the Postal Service (USPS®) filed a notice of mailing services price adjustments with the Postal Regulatory Commission (PRC), effective July 13, 2025. This final rule contains the revisions to Mailing Standards of the United States Postal Service, Domestic Mail Manual (DMM®) to implement the changes coincident with the price adjustments and other DMM changes.

DATES: Effective Date: July 13, 2025.

FOR FURTHER INFORMATION CONTACT: Doriane Harley at (202) 268-2537 or Dale Kennedy at (202) 268-6592.

SUPPLEMENTARY INFORMATION: On May 30, 2025, the PRC favorably reviewed the price adjustments proposed by the Postal Service. The price adjustments and DMM revisions are scheduled to become effective on July 13, 2025. Final prices are available under Docket No. R2025-1 (Order No. 8867) on the Postal Regulatory Commission's website at www.prc.gov.

SCF Pallet Discount for First Class Mail

The Postal Service will offer SCF pallet discounts to First-Class card, letter, and flat-shaped mail on Sectional Center Facilities (SCF) or finer pallets. The discount will be a containerization discount for SCF, 5-Digit, and/or AADC/ADC pallets for First-Class Mail.

Elimination of Bundling in First-Class Mail Flat Trays

The Postal Service is eliminating bundling for First Class Mail flats in flat tubs. Customers would continue to prepare each tub with mail sorted to the 5-digit, 3-digit, and scheme price levels without bundling the mail.

Elimination of Marketing Mail Commercial & Nonprofit Automation Basic CR Letters

The Postal Service is eliminating the Basic Carrier Route Letter rate category to reduce the additional costs of processing and delivering of such mailpieces.

Elimination of Media and Library Mail Presort Prices

The Postal Service is elimination the presort options for Media and Library Mail. The 5-digit and Basic rate options will be eliminated and single-piece will remain as the available rate category.

Nonprofit Machinable and Nonprofit Irregular Priced Parcels Dimensions

The Postal Service is updating the dimensions of 108 inches in length and girth for consistency with the pricing of the product, machinable parcels. The Postal Service will revise the dimensions to be 22 inches in length, 18 inches in width, and 15 inches in height.

Combine Plus One and Detached Marketing Labels (DML) Products

The Postal Service is merging these two products into one Plus One product and will allow usage with either marriage mail saturation letters or saturations flats.

Eliminate DNDC Entry Discount for USPS Marketing Mail, Periodicals, and Bound Printed Matter

The Postal Service is eliminating NDC entry and the DNDC entry discount for USPS Marketing Mail, Periodicals, and Bound Printed Matter.

Alaska Bypass Nomenclature Update

Alaska Bypass is no longer priced by zone therefore, the Postal Service is removing all references to zone pricing.

2026 Promotions

The Postal Service will offer a 2026 Promotions Calendar with opportunities for mailers to receive a postage discount by applying treatments or integrating technology in their mail campaigns. Additionally, the Postal Service will offer a new “Catalog Insights” incentive which will provide a 10 percent discount for mailers who mail qualifying catalogs. Qualifying USPS Marketing Mail Letters, Flats, and Parcels will be eligible for the discount, which will run from October 1, 2025 through June 30, 2026.

Mail Growth Incentives Continuation in Calendar Year 2026

The Postal Service will continue both the “First-Class Mail Growth Incentive” and the “Marketing Mail Growth Incentive” for calendar year 2026 and beyond.

Marriage Mail Incentive Extension to High Density Plus Letters and Flats

The Postal Service will extend the marriage mail incentive to High Density Plus USPS Marketing Mail letters and flats that meet the incentive requirements.

These revisions will provide consistency within postal products and add value for customers.

Market Dominant comments on Proposed changes and USPS responses.

The Postal Service received two formal comments on the May 2025 proposed rule (90 FR 18730-18758).

• Comment: Both commenters requested changes to the 50 piece minimums for First Class Mail flats in trays.

Response: The Postal Service has revised the minimum to reflect “full flat tray or 50 pieces”, whichever comes first.

• Comment: One commenter objected to the elimination of the DNDC entry discount and requests that a DRPDC discount be established.

Response: The Postal Service will take this suggestion into consideration for future initiatives

The Postal Service adopts the described changes to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, the Postal Service amends Mailing Standards of the United States Postal Service, Domestic Mail Manual (DMM), incorporated by reference in the Code of Federal Regulations as follows (see 39 CFR 111.1):

PART 111—GENERAL INFORMATION ON POSTAL SERVICE

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

200 Commercial Letters, Cards, Flats, and Parcels

201 Physical Standards

* * * * *

4.0 Physical Standards for Flats

* * * * *

Exhibit 4.7b Pricing for Flats Exceeding Maximum Deflection

(see 4.6)

* * * * *

USPS MARKETING MAIL

Eligibility as presented

Eligibility with failed deflection

* * * * *

[Revise the entries beginning with “Nonautomation flat . . .' to read as follows:]

Nonautomation flat (all sort levels with no entry discount)

Nonautomation flat (all sort levels entered at DSCF)

Nonautomation MADC or None flat

Nonautomation MADC flat

[Add an entry at the end of the “USPS Marketing Mail” section to read as follows:]

Nonbarcoded nonpresorted flat

Price as claimed, if otherwise eligible

* * * * *

8.0 Additional Physical Standards by Class of Mail

* * * * *

8.4 USPS Marketing Mail Parcels

* * * * *

8.4.2 Size

USPS Marketing Mail parcel dimensions and characteristics must be as follows: * * *

* * * * *

[Revise the introductory text of item b to read as follows:]

b. Nonprofit Machinable priced parcel and Nonprofit Nonstandard priced parcel dimensions are as follows:

[Revise the text of items b1 and b2 to read as follows:]

1. A Nonprofit Machinable priced parcel and Nonprofit Nonstandard priced parcel must be large enough to hold the required delivery address, return address, mailing labels, postage, barcode, endorsements, and other mail markings on the address side of the parcel.

2. A Nonprofit Machinable priced parcel and Nonprofit Nonstandard priced parcel must not exceed 22 inches in length, 18 inches in width, or 15 inches in height.

* * * * *

202 Elements on the Face of a Mailpiece

* * * * *

2.0 Address Placement

* * * * *

2.2 Flats

2.2.1 Basic Standards

[Revise the first sentence of 2.2.1 to read as follows:]

On all Periodicals, USPS Marketing Mail, and Bound Printed Matter flats mailed at presorted, automation, or carrier route prices, mailers must place the delivery address at least ⅛ inch from any edge of the mailpiece. * * *

2.2.2 Address Placement on Enveloped or Polywrapped Pieces

[Revise the introductory paragraph of 2.2.2 to read as follows:]

The following standards apply to enveloped, polywrapped, or card-type Periodicals (including shrinkwrapped Firm bundles), USPS Marketing Mail, and Bound Printed Matter flat-size pieces mailed at presorted, automation, or carrier route prices (for examples, see Customer Support Ruling PS-352.): * * *

* * * * *

2.2.3 Address Placement on Bound or Folded Pieces

[Revise the introductory paragraph of 2.2.3 to read as follows:]

The following standards apply to bound or folded (see 2.2.2 for all card-type pieces), Periodicals, USPS Marketing Mail, and Bound Printed Matter flat-size pieces mailed at presorted, automation, or carrier route prices not in envelopes or polywrap (for examples, see Customer Support Ruling PS-352.): * * *

* * * * *

2.2.4 Type Size and Line Spacing

[Revise the first sentence of the introductory paragraph of 2.2.4 to read as follows:]

On all First-Class Mail, Periodicals, USPS Marketing Mail, and Bound Printed Matter flat-size pieces mailed at presorted, automation, or carrier route prices, mailers must print the delivery address using at least 8-point type (each character must be at least 0.080 inch high). * * *

* * * * *

3.0 Placement and Content of Mail Markings

* * * * *

3.7 Parcel Select, Bound Printed Matter, Media Mail, and Library Mail Markings

* * * * *

[Delete 3.7.6 in its' entirety:]

* * * * *

203 Basic Postage Statement, Documentation, and Preparation Standards

* * * * *

3.0 Standardized Documentation for First-Class Mail, Periodicals, USPS Marketing Mail, and Flat-Size Bound Printed Matter

* * * * *

3.2 Format and Content

For First-Class Mail, Periodicals, USPS Marketing Mail, and Bound Printed Matter, standardized documentation includes: * * *

d. For bundles on pallets, list these required elements: * * *

[Revise the second sentence of item (d4) to read as follows:]

4. * * * Document sectional center facility/local processing center (SCF/LPC) or area distribution center/regional processing and distribution center (ADC) pallets created as a result of bundle reallocation under 705.8.11, 705.8.12, or 705.8.13 by designating the protected pallet with an identifier of “PSCF” (for an SCF/LPC pallet) or “PADC” (for an ADC pallet). * * *

* * * * *

3.3 Price Level Column Headings

* * * * *

b. Presorted First-Class Mail, barcoded and nonbarcoded Periodicals flats, nonbarcoded Periodicals letters, and machinable, nonmachinable and nonstandard USPS Marketing Mail:

PRICE ABBREVIATION

* * * * *

[Revise the entry beginning with “Mixed NDC to read as follows:]

Mixed [USPS Marketing Mail Nonprofit machinable priced parcels and Marketing Parcels 3.5 ounces and over]

MXD

* * * * *

3.4 Sortation Level

The sortation level (or corresponding abbreviation) is used for the bundle, tray, sack, or pallet levels required under 3.2 and shown below:

SORTATION LEVEL ABBREVIATION

* * * * *

[Revise the entry “NDC' to read as follows:]

NDC (USPS Marketing Parcels only)

NDC

[Revise the entry “ASF' to read as follows:]

ASF (USPS Marketing Parcels only)

ASF

[Delete the entry beginning with “NDC [pallets . . .” in its' entirety]

[Revise the entry beginning with “Mixed NDC . . .” to read as follows:]

Mixed [working] MXD

* * * * *

3.7 Bundle and Container Reports for Outside-County Periodicals Mail

* * * * *

3.7.2 Outside-County Container Report

The container report must contain, at a minimum, the following elements:

* * * * *

d. Container entry level (origin, destination delivery unit/sorting and delivery center [DDU/S&DC], destination sectional center facility/local processing center [DSCF/LPC] (letters/flats), destination sectional center facility/regional processing and distribution center [DSCF/RPDC] (parcels), or destination area distribution center/destination sectional center facility [DADC/DSCF].

* * * * *

4.0 Bundles

* * * * *

4.10 Additional Standards for Unsacked/Untrayed Bundles Entered at DDU/S&DC Facilities

* * * * *

[Revise item (b) to read as follows:]

b. Mailers must enter bundles at DDUs/SDCs according to the appropriate deposit and entry standards (e.g., 207.23.4.2 for Periodicals, 246.5.0 for USPS Marketing Mail flats).

* * * * *

5.0 Letter and Flat Trays

* * * * *

5.7 Preparation for First-Class Mail Flats in EMM Letter Trays

Mailers may prepare First-Class Mail flat-size pieces in EMM letter trays instead of flat trays if the following standards are met: * * *

[Revise item (c) to read as follows:]

All mail must be prepared under 235.8.0, and must not be prepared in bundles.

* * * * *

7.0 Optional Endorsement Lines (OELs)

* * * * *

7.2 OEL Format

* * * * *

Exhibit 7.2.5 OEL Labeling Lists

PROCESSING CATEGORY AND PRESORT TYPE

ADC/AADC

MIXED ADC/MIXED AADC

* * * * *

Periodicals ¹

[Remove the superscript ⁽²⁾ from all applicable entries:]

* * * * *

USPS Marketing Mail ¹

[Remove the superscript ⁽²⁾ from all applicable entries:]

* * * * *

Bound Printed Matter ¹

[Remove the superscript ⁽²⁾ from all applicable entries:]

[Delete sections titled “Media Mail” and “Library Mail” in its' entirety]

* * * * *

[Delete footnote (2) in its entirety:]

* * * * *

204 Barcode Standards

* * * * *

3.0 Standards for Barcoded Tray Labels, Sack Labels, and Container Labels

* * * * *

3.2 Specifications for Barcoded Tray and Sack Labels

* * * * *

Exhibit 3.2.1 Required Barcoded Tray and Sack Labels

PRICE OR TYPE

First-Class Mail

PROCESSING CATEGORY

First-Class Mail

* * * * *

[Delete the entry beginning with “Cobundled. . . .” in its' entirety:]

* * * * *

Exhibit 3.2.4 3-Digit Content Identifier Numbers

CLASS AND MAILING CIN

HUMAN-READABLE CONTENT LINE

* * * * *

First-Class Mail

* * * * *

FCM Flats—Automation

[Add a new entry to read as follows:]

5-digit scheme trays | 271 | FCM FLTS 5D SCH BC

* * * * *

[Delete the section titled “FCM Flats—Co-trayed Automation and Presorted” in its' entirety:]

* * * * *

USPS MARKETING MAIL

ECR Letters—Barcoded

[Delete item beginning with “basic price. . . .” in its' entirety]

* * * * *

[Delete the sections beginning with “Media Mail and Library Mail . . .” in their entirety:]

* * * * *

207 Periodicals

* * * * *

14.0 Barcoded (Automation) Eligibility

* * * * *

14.2 Eligibility Standards for Full-Service Automation Periodicals

All pieces entered under the full-service automation option must:

* * * * *

[Revise item (c) to read as follows:]

c. Be scheduled for an appointment through the Facility Access and Shipment Tracking (FAST) system when deposited as a DADC or DSCF drop shipment.

* * * * *

29.0 Destination Entry

* * * * *

[Delete 29.2 in its' entirety; renumber 29.3 through 29.5 as 29.2 through 29.4 respectively:]

* * * * *

230 Commercial Mail First-Class Mail

233 Prices and Eligibility

[Revise the title of 233.4.0 to read as follows:]

4.0 Additional Eligibility Standards for Nonautomation First-Class Mail

* * * * *

4.3 Price Application—Nonautomation Machinable—Letters

* * * * *

[Add a new 4.3.2 to read as follows; renumber the current 4.3.2 as 4.3.3:]

4.3.2 AADC First Class Mail Letter-Shaped Pieces SCF-Pallet Discount Eligibility

The SCF-pallet discount applies to AADC-eligible First Class Mail letter-shaped pieces that are palletized under 705.8.10.1b to 705.8.10.1d.

Note: The SCF pallet discount also applies to pieces that are palletized according to a Customer/Supplier Agreement (CSA) with the following processing codes:

—Local

—Surface

—Air

* Containers with processing codes for Mixed Air, Mixed Surface, Working, and Single-Piece do not qualify for the SCF pallet discount.

[Newly renumbered 4.3.3]

4.3.3 Mixed AADC Price

The mixed AADC price applies to qualifying letter-size machinable pieces that the mailer prepares in mixed AADC trays, except for pieces placed in mixed AADC trays in lieu of overflow AADC trays (see 235.5.2.2).

* * * * *

4.5 Nonautomation Nonmachinable Price Application—Letters

* * * * *

[Add a new 4.5.2 to read as follows; renumber the current 4.5.2 as 4.5.3:]

4.5.2 5-Digit First Class Mail Letter-Shaped Pieces SCF-Pallet Discount Eligibility

The SCF-pallet discount applies to 5-digit-eligible First-Class Mail letter-shaped pieces that are palletized under 705.8.10.1a to 705.8.10c and 705.8.10.1e.

Note: The SCF pallet discount also applies to pieces that are palletized according to a Customer/Supplier Agreement (CSA) with the following processing codes:

—Local

—Surface

—Air

* Containers with processing codes for Mixed Air, Mixed Surface, Working, and Single-Piece do not qualify for the SCF pallet discount.

[Newly renumbered 4.5.3:]

4.5.3 3-Digit Price

The 3-digit price applies to letter-size mail in quantities of 150 or more pieces for a 3-digit ZIP Code prepared in 3-digit trays (overflow pieces in MADC trays and 10 or more pieces bundled in 3-digit origin/entry trays).

[Add a new 4.5.4 to read as follows; renumber the current 4.5.4 as 4.5.5:]

4.5.4 3-Digit First Class Mail Letter-Shaped Pieces SCF-Pallet Discount Eligibility

The SCF pallet discount applies to 3-digit-eligible First-Class Mail letter-shaped pieces that are palletized under 705.8.10.1b, 705.8.10.1c or 705.8.10.1e.

Note: The SCF pallet discount also applies to pieces that are palletized according to a Customer/Supplier Agreement (CSA) with the following processing codes:

—Local

—Surface

—Air

* Containers with processing codes for Mixed Air, Mixed Surface, Working, and Single-Piece do not qualify for the SCF pallet discount.

[Newly renumbered 4.5.5:]

4.5.5 Mixed ADC Price

The mixed ADC price applies to letter-size pieces that are subject to nonmachinable prices and prepared in mixed ADC trays.

[Add a new 4.6 to read as follows:]

4.6 Price Application—Nonautomation Cards and Flats—Presorted

Nonautomation cards and flats are subject to presorted and single-piece prices only.

[Add a new 4.6.1 to read as follows:]

4.6.1 Presorted First-Class Mail Cards and Flat-Shaped Pieces SCF Pallet Discount Eligibility

The SCF pallet discount applies to presorted eligible First-Class Mail cards and flat-shaped pieces that are palletized under 705.8.10.1a to 705.8.10c and 705.8.10.1e (for flats) and 705.810.1d (for cards).

Note: The SCF pallet discount also applies to pieces that are palletized according to a Customer/Supplier Agreement (CSA) with the following processing codes:

—Local

—Surface

—Air

* Containers with processing codes for Mixed Air, Mixed Surface, Working, and Single-Piece do not qualify for the SCF pallet discount.

* * * * *

5.0 Additional Eligibility Standards for Automation First-Class Mail

5.1 Basic Standards for Automation First-Class Mail

All pieces in a First-Class Mail automation mailing must: * * *

[Revise item (f) to read as follows:]

f. Be marked, sorted, and documented as specified in 235.6.0, for letters and cards, or 235.8.0 for flats.

* * * * *

5.4 Price Application—Automation Cards and Letters

* * * * *

[Add new entries 5.4.1 and 5.4.2 to read as follows:]

5.4.1 5-Digit First Class Mail Cards and Letter-Shaped Pieces SCF-Pallet Discount Eligibility

The SCF-pallet discount applies to 5-digit-eligible First-Class Mail cards and letter-shaped pieces that are palletized under 705.8.10.1a to 705.8.10.1d.

Note: The SCF pallet discount also applies to pieces that are palletized according to a Customer/Supplier Agreement (CSA) with the following processing codes:

—Local

—Surface

—Air

* Containers with processing codes for Mixed Air, Mixed Surface, Working, and Single-Piece do not qualify for the SCF pallet discount.

5.4.2 AADC First Class Mail Cards and Letter-Shaped Pieces SCF-Pallet Discount Eligibility

The SCF-pallet discount applies to AADC-eligible First Class Mail cards and letter-shaped pieces that are palletized under 705.8.10.1b to 705.8.10.1d.

Note: The SCF pallet discount also applies to pieces that are palletized according to a Customer/Supplier Agreement (CSA) with the following processing codes:

—Local

—Surface

—Air

* Containers with processing codes for Mixed Air, Mixed Surface, Working, and Single-Piece do not qualify for the SCF pallet discount.

[Delete 5.5 in its' entirety; renumber 5.6 and 5.7 as 5.5 and 5.6 respectively:]

[Revise newly renumbered 5.5 to read as follows:]

5.5 Price Application—Flats

Automation prices apply to each piece that is sorted under 235.8.6, into the corresponding qualifying groups:

a. Groups of 50 or more pieces and all pieces in a full 5-digit/scheme tray qualify for the 5-digit price. Preparation to qualify for the 5-digit price is optional and need not be done for all 5-digit destinations.

b. Groups of 50 or more pieces and all pieces in a full 3-digit tray qualify for the 3-digit price. Preparation to qualify for the 3-digit price is optional and need not be done for all 3-digit destinations.

c. Groups of fewer than 50 pieces in origin 3-digit trays and all pieces in ADC trays qualify for the ADC price. Preparation to qualify for the ADC price is optional and need not be done for all ADC destinations.

d. All pieces in mixed ADC trays qualify for the mixed ADC price.

[Add new entries 5.5.1 through 5.5.3 to read as follows:]

5.5.1 5-Digit First-Class Mail Flat-Shaped Pieces SCF-Pallet Discount Eligibility

The SCF-pallet discount applies to 5-digit-eligible First-Class Mail flat-shaped pieces that are palletized under 705.8.10.1a to 705.8.10c and 705.8.10.1e.

Note: The SCF pallet discount also applies to pieces that are palletized according to a Customer/Supplier Agreement (CSA) with the following processing codes:

—Local

—Surface

—Air

* Containers with processing codes for Mixed Air, Mixed Surface, Working, and Single-Piece do not qualify for the SCF pallet discount.

5.5.2 3-Digit First-Class Mail Flat-Shaped Pieces SCF-Pallet Discount Eligibility

The SCF-pallet discount applies to 3-digit-eligible First Class Mail flat-shaped pieces that are palletized under 705.8.10.1b, 705.8.10.1c and 705.8.10.1e.

Note: The SCF pallet discount also applies to pieces that are palletized according to a Customer/Supplier Agreement (CSA) with the following processing codes:

—Local

—Surface

—Air

* Containers with processing codes for Mixed Air, Mixed Surface, Working, and Single-Piece do not qualify for the SCF pallet discount.

5.5.3 ADC First-Class Mail Flat-Shaped Pieces SCF-Pallet Discount Eligibility

The SCF-pallet discount applies to ADC-eligible First-Class Mail flat-shaped pieces that are palletized under 705.8.10.1b, 705.8.10.1c, and 705.8.10.1e.

Note: The SCF pallet discount also applies to pieces that are palletized according to a Customer/Supplier Agreement (CSA) with the following processing codes:

—Local

—Surface

—Air

* Containers with processing codes for Mixed Air, Mixed Surface, Working, and Single-Piece do not qualify for the SCF pallet discount.

* * * * *

235 Mail Preparation

* * * * *

1.0 General Definition of Terms

* * * * *

1.2 Definition of Mailings

Mailings are defined as: * * *

[Revise the introductory paragraph of 1.2(b) to read as follows:]

b. The types of First-Class Mail listed below must not be part of the same mailing despite being in the same processing category: * * *

* * * * *

1.3.2 Flats

[Revise 1.3.2 to read as follows:]

Terms used for presort levels are defined as follows:

a. 5-digit: The delivery address on all pieces includes the same 5-digit ZIP Code.

b. 5-digit scheme (trays) for automation flats: the ZIP Code in the delivery address on all pieces is one of the 5-digit ZIP Code areas processed by the USPS as one scheme, as shown in labeling list L012.

c. 3-digit: The ZIP Code in the delivery address on all pieces begins with the same three digits (see L002, Column A).

d. Origin/optional entry 3-digit(s): The ZIP Code in the delivery address on all pieces begins with one of the 3-digit prefixes processed at the sectional center facility (SCF)/local processing center (LPC) in whose service area the mail is verified or entered. Subject to standard, a separation is required for each such 3-digit area regardless of the mail volume.

e. ADC: All pieces are addressed for delivery in the service area of the same area distribution center (ADC) (see L004).

f. Mixed ADC: The pieces are for delivery in the service area of more than one ADC.

1.4 Preparation Definitions and Instructions

For purposes of preparing mail:

* * * * *

[Revise the first sentence of item (e) to read as follows:]

e. A 5-digit scheme sort for automation letters and flats yields 5-digit scheme trays for those 5-digit ZIP Codes identified in labeling list L012 and 5-digit trays for other areas.

* * * * *

[Delete item (o) in its' entirety:]

* * * * *

7.0 Preparation of Nonautomation Flats

* * * * *

7.3 Nonautomation Pieces

[Revise 7.3 to read as follows:]

Nonautomation flats must use the preparation sequence and tray labeling in 7.4 . Bundling is not permitted.

[Delete 7.4 in its' entirety; renumber 7.5 and 7.6 as 7.4 and 7.5 respectively:]

[Newly renumbered 7.4:]

7.4 Traying and Labeling

[Revise newly renumbered 7.4 to read as follows:]

Preparation sequence, tray size, and labeling:

a. 5-digit (optional), full tray or 50 piece minimum; (no overflow); labeling:

1. Line 1: city, state, and 5-digit ZIP Code on mail (see 203.5.11 for overseas military mail).

2. Line 2: “FCM FLTS 5D NON BC.”

b. 3-digit (optional); full tray or 50 piece minimum; (no overflow), except for one less-than-full tray for each origin 3-digit(s); labeling:

1. Line 1: L002, Column A.

2. Line 2: “FCM FLTS 3D NON BC.”

c. ADC (optional); full tray or 50 piece minimum (no overflow); labeling:

1. Line 1: L004, Column B.

2. Line 2: “FCM FLTS ADC NON BC.”

d. Mixed ADC (required); no minimum; labeling:

1. Line 1: Use L201; for mail originating in ZIP Code areas in Column A, use “MXD” followed by city, state, and 3-digit ZIP Code prefix in Column C (use “MXD” instead of “OMX” in the destination line and ignore Column B).

2. Line 2: “FCM FLTS NON BC WKG.”

[Newly renumbered 7.5:]

[Delete 7.5 in its' entirety:]

* * * * *

8.0 Preparation of Automation Flats

* * * * *

8.4 General Preparation

[Revise 8.4 to read as follows:]

Automation flats must use the preparation sequence and tray labeling in 8.5. Bundling is not permitted.

[Delete section 8.5 in its' entirety; renumber 8.6 through 8.8 as 8.5 through 8.7:]

[Newly renumbered 8.5:]

8.5 Traying and Labeling:

[Revise newly renumbered 8.5 to read as follows:]

Tray size, preparation sequence, and Line 1 labeling:

a. 5-digit/scheme: optional, but required for 5-digit price (full tray or 50-piece minimum); one less-than-full or overflow tray allowed; see 8.6 for scheme; labeling:

1. Line 1: city, state, and 5-digit ZIP Code on mail (see 204.3.0, for overseas military mail).

2. Line 2: “FCM FLTS 5D BC” or “FCM FLTS BC 5D SCHEME”

b. 3-digit: optional (full tray or 50-piece minimum); one less-than-full or overflow tray allowed; labeling:

1. Line 1: L002, Column A.

2. Line 2: “FCM FLTS 3D BC.”

c. Origin 3-digit: required for each 3-digit ZIP Code served by the SCF/LPC of the origin (verification) office; no minimum; labeling:

1. Line 1: L002, Column A.

2. Line 2: “FCM FLTS 3D BC.”

d. ADC: optional (full tray or 50-piece minimum); one less-than-full or overflow tray allowed; group pieces by 3-digit ZIP Code prefix; labeling:

1. Line 1: L004, Column B.

2. Line 2: “FCM FLTS ADC BC.”

Exception: Pieces are not required to be grouped by 3-digit ZIP Code prefix in ADC trays if the mailing is prepared using an MLOCR/barcode sorter, and standardized documentation is submitted.

e. Mixed ADC (required); no minimum for price eligibility. Group pieces by ADC. labeling:

1. Line 1: Use L201; for mail originating in ZIP Code areas in Column A, use “MXD” followed by city, state, and 3-digit ZIP Code prefix in Column C. (Use “MXD” instead of “OMX” in the destination line and ignore Column B).

2. Line 2: “FCM FLTS BC WKG.”

Mailers using a MLOCR/barcode sorter and submitting standardized documentation need not group pieces by ADC.

* * * * *

[Newly renumbered 8.6]

[Revise newly renumbered 8.6 to read as follows:]

8.6 5-Digit Scheme Tray Preparation

Pieces meeting the automation-compatibility criteria in 201.4.0, may be prepared in 5-digit scheme trays for those 5-digit ZIP Code combinations identified in L007. These trays must meet the additional standards in 1.4e.

[Newly renumbered 8.7]

[Delete 8.7 in its' entirety:]

* * * * *

240 Commercial Mail USPS Marketing Mail

243 Prices and Eligibility

* * * * *

3.0 Basic Eligibility Standards for USPS Marketing Mail

* * * * *

3.2 Defining Characteristics

3.2.1 Mailpiece Weight

* * * * *

[Revise the first sentence of item (b) to read as follows:]

b. Pieces mailed at automation carrier route (saturation, high density, and high density plus) letter prices may weigh up to 3.5 ounces. * * *

* * * * *

4.0 Price Eligibility for USPS Marketing Mail

* * * * *

4.2 Minimum Per Piece Prices

The minimum per piece prices (the minimum postage that must be paid for each piece) apply as follows: * * *

c. Individual prices. The following apply: * * *

[Delete item c(2) in its' entirety; renumber items c(3) through c(6) as c(2) through c(5) respectively:]

[Revise renumbered item 2 to read as follows:]

2. Except for Customized MarketMail pieces, discounted per-piece prices also may be claimed for destination sectional center facility (DSCF) and destination delivery unit (DDU) under 246.

* * * * *

5.0 Additional Eligibility Standards for Nonautomation USPS Marketing Mail Letters, Flats, and Presorted USPS Marketing Mail Parcels

* * * * *

5.4 Machinable Price Application—Letters

* * * * *

5.4.3 AADC USPS Marketing Mail Letter-Shaped Pieces SCF-Pallet Discount Eligibility

[Revise 5.4.3 to read as follows:]

The SCF-pallet discount applies to AADC-eligible USPS Marketing Mail letter-shaped pieces that are palletized under 705.8.10.3e and 705.8.10.3f and entered at Origin (None) or DSCF/LPC entry.

* * * * *

5.5 Nonmachinable Price Application—Letters

* * * * *

5.5.3 5-Digit USPS Marketing Mail Letter-Shaped Pieces SCF-Pallet Discount Eligibility

* * * * *

[Revise the text of 5.5.3 to read as follows:]

The SCF-pallet discount applies to 5-digit-eligible pieces that are palletized under 705.8.10.3a to 705.8.10.3f and entered at Origin (None) or DSCF/LPC entry.

* * * * *

5.5.5 3-Digit USPS Marketing Mail Letter-Shaped Pieces SCF-Pallet Discount Eligibility

[Revise the text of 5.5.5 to read as follows:]

The SCF pallet discount applies to 3-digit-eligible USPS Marketing Mail letter-shaped pieces that are palletized under 705.8.10.3e and 705.8.10.3f and entered at Origin (None) or DSCF entry.

* * * * *

5.5.7 ADC USPS Marketing Mail Letter-Shaped Pieces SCF-Pallet Discount Eligibility

[Revise the text of 5.5.7 to read as follows:]

The SCF-pallet discount applies to ADC-eligible USPS Marketing Mail letter-shaped pieces that are palletized under 705.8.10.3e and 705.8.10.3f and entered at Origin (None) or DSCF/LPC entry.

* * * * *

5.6 Nonautomation Price Application—Flats

* * * * *

5.6.2 5-Digit USPS Marketing Mail Flat-Shaped Pieces SCF-Pallet Discount Eligibility

* * * * *

[Revise the text of 5.6.2 to read as follows:]

The SCF-pallet discount applies to 5-digit-eligible USPS Marketing Mail flat-shaped pieces that are palletized under 705.8.10.3d, 705.8.10.3e, and 705.8.10.3f and entered at Origin (None) or DSCF/LPC entry.

* * * * *

5.6.4 3-Digit USPS Marketing Mail Flat-Shaped Pieces SCF-Pallet Discount Eligibility

[Revise the text of 5.6.4 to read as follows:]

The SCF-pallet discount applies to 3-digit-eligible USPS Marketing Mail flat-shaped pieces that are palletized under 705.8.10.3e and 705.8.10.3f and entered at Origin (None) or DSCF/LPC entry.

* * * * *

5.6.6 ADC USPS Marketing Mail Flat-Shaped Pieces SCF-Pallet Discount Eligibility

[Revise the text of 5.6.6 to read as follows:]

The SCF-pallet discount applies to ADC-eligible USPS Marketing Mail flat-shaped pieces that are palletized under 705.8.10.3e and 705.8.10.3f and entered at Origin (None) or DSCF/LPC entry.

5.6.7 Mixed ADC Prices for Flats

[Revise the text of 5.6.7 to read as follows:]

Mixed ADC prices apply to flat-size pieces in bundles that do not qualify for 5-digit, 3-digit, or ADC prices; placed in mixed ADC flat trays or on mixed pallets under 705.8.0.

5.7 Prices for Machinable Parcels

5.7.1 5-Digit Price

[Revise the introductory text of 5.7.1 to read as follows:]

The 5-digit price applies to qualifying machinable parcels that are dropshipped to a DSCF/RPDC or DDU/S&DC and presented: * * *

[Delete item (d) in its entirety:]

5.7.2 NDC Price

[Revise the text of 5.7.2 to read as follows:]

The NDC price applies to qualifying machinable parcels presented at the origin acceptance office on an ASF/NDC/RPDC pallet containing at least 200 pounds of pieces.

[Revise the title of 5.7.3 to read as follows:]

5.7.3 Mixed Price

[Revise the text of 5.7.3 to read as follows:]

The mixed price applies to machinable parcels that are not eligible for 5-digit or NDC prices. Machinable parcels at mixed prices must be placed in mixed sacks or on mixed pallets. See 245.11.3 and 705.8.10.

[Revise the title of 5.8 to read as follows:]

5.8 Prices for Nonstandard Parcels and Marketing Parcels

5.8.1 5-Digit Price

[Revise the introductory paragraph of 5.8.1 to read as follows:]

Five-digit prices apply to nonstandard parcels and to Marketing parcels that are dropshipped to DSCF/DRPDC or DDU or DSDC and presented: * * *

* * * * *

5.8.2 SCF Price

[Revise the text of 5.8.2 to read as follows:]

SCF prices apply to nonstandard parcels and Marketing Parcels as follows under either of the following conditions:

a. When dropshipped to a DSCF/RPDC and presented:

1. In an SCF/RPDC sack containing at least 10 pounds of parcels.

1. On an SCF/RPDC pallet, according to 705.8.10.

2. In SCF/RPDC containers prepared under 705.21.0.

b. When presented at the origin acceptance office on an SCF/RPDC pallet containing at least 200 pounds of pieces.

5.8.3 NDC Price

[Revise 5.8.3 to read as follows:]

NDC prices apply to nonstandard parcels and to Marketing Parcels when presented at the origin acceptance office on a NDC pallet containing at least 200 pounds of pieces.

[Revise the title of 5.8.4 to read as follows:]

5.8.4 Mixed Price

[Revise 5.8.4 to read as follows:]

Mixed prices apply to nonstandard parcels and to Marketing Parcels in origin NDC/RPDC or Mixed containers that are not eligible for 5-digit, SCF, or NDC prices. Parcels at Mixed prices must be placed in origin NDC/RPDC or mixed sacks under 245.11.4.3 or on origin NDC/RPDC or Mixed pallets under 705.8.10.

* * * * *

6.0 Additional Eligibility Standards for Enhanced Carrier Route USPS Marketing Mail Letters and Flats

* * * * *

6.3 Basic Price Enhanced Carrier Route Standards

* * * * *

6.3.3 Basic Carrier Route USPS Marketing Mail Letter-Shaped Pieces SCF-Pallet Discount Eligibility

[Revise 6.3.3 to read as follows:]

The SCF-pallet discount applies to Basic Carrier Route-eligible USPS Marketing Mail letter-shaped pieces that are palletized under 705.8.10.3a to 705.8.10.3f and entered at Origin (None) or DSCF/LPC entry.

* * * * *

6.3.5 Basic Carrier Route Bundles on a 5-Digit/Direct Container (Basic-CR Bundles/Container) Price Eligibility—Flats

[Revise 6.3.5 to read as follows:]

The Basic-CR Bundles/Container discount applies to each piece in a carrier route bundle of 10 or more pieces that are palletized under 705.8.0, 705.10.0, 705.12.0, or 705.13.0 on a 5-digit merged, 5-digit (scheme) merged, 5-digit carrier route or 5-digit scheme carrier route pallet entered at an Origin (None), DSCF, or DDU entry or in a carrier route sack or flat tray under 245.9.7a or 203.5.8 and entered at the DDU.

6.3.6 Basic Carrier Route USPS Marketing Mail Flat-Shaped Pieces SCF-Pallet Discount Eligibility

[Revise 6.3.6 to read as follows:]

The SCF-pallet discount applies to Basic Carrier Route-eligible USPS Marketing Mail flat-shaped pieces that are palletized under 705.8.10.3d, 705.8.10.3e, and 705.8.10.3f and entered at Origin (None) or DSCF/LPC entry.

6.4 High Density and High Density Plus (Enhanced Carrier Route) Standards—Letters

* * * * *

6.4.3 High Density and High Density Plus USPS Marketing Mail Letter-Shaped Pieces SCF-Pallet Discount Eligibility

[Revise 6.4.3 to read as follows:]

The SCF-pallet discount applies to High Density- and High Density Plus-eligible USPS Marketing Mail letter-shaped pieces that are palletized under 705.8.10.3a to 705.8.10.3f and entered at Origin (None) or DSCF/LPC entry.

6.5 High Density and High Density Plus (Enhanced Carrier Route) Standards—Flats

* * * * *

6.5.3 High Density Carrier-Route Bundles on a 5-Digit/Direct Container (High Density-CR Bundles/Container Discount Eligibility)—Flats

[Revise 6.5.3 to read as follows:]

The High Density-CR Bundles/Container discount applies to 125 or more High Density-eligible pieces that are palletized under 705.8.0, 705.10.0, 705.12.0, or 705.13.0 on the following type of pallet entered at an Origin (None), DSCF/LPC, or DDU/S&DC entry, or placed in a carrier-route sack or flat tray under 245.9.7a or 203.5.8 and entered at the DDU/S&DC:

* * * * *

6.5.4 High Density Plus Carrier-Route Bundles on a 5-Digit/Direct Container (High Density Plus-CR Bundles/Container Discount Eligibility)—Flats

[Revise 6.5.4 to read as follows:]

The High Density Plus-CR Bundles/Container discount applies to 300 or more High Density Plus-eligible pieces that are palletized under 705.8.0, 705.10.0, 705.12.0, or 705.13.0 on the following type of pallet entered at an Origin (None), DSCF/LPC, or DDU/S&DC entry, or in a carrier-route sack or tub, under 245.9.7a or 203.5.8, and entered at the DDU/S&DC:

* * * * *

6.5.5 High Density USPS Marketing Mail Flat-Shaped Pieces SCF-Pallet Discount Eligibility

[Revise 6.5.5 to read as follows:]

The SCF-pallet discount applies to 125 or more High Density-eligible USPS Marketing Mail flat-shaped pieces that are palletized under 705.8.10.3d, 705.8.10.3e, and 705.8.10.3f and entered at Origin (None) or DSCF/LPC entry.

6.5.6 High Density Plus USPS Marketing Mail Flat-Shaped Pieces SCF-Pallet Discount Eligibility

[Revise 6.5.6 to read as follows:]

The SCF-pallet discount applies to 300 or more High Density Plus-eligible USPS Marketing Mail flat-shaped pieces that are palletized under 705.8.10.3d, 705.8.10.3e, and 705.8.10.3f and entered at Origin (None) or DSCF/LPC entry.

* * * * *

6.6 Saturation ECR Standards—Letters

* * * * *

6.6.3 Saturation USPS Marketing Mail Letter-Shaped Pieces SCF-Pallet Discount Eligibility

[Revise 6.6.3 to read as follows:]

The SCF-pallet discount applies to at least 90 percent or more of the total number of active residential addresses, or 75 percent or more of the total number of active possible delivery addresses, on each carrier route that are palletized under 705.8.10.3a to 705.8.10.3f and entered at Origin (None) or DSCF/LPC entry.

6.7 Saturation Enhanced Carrier Route Standards—Flats

* * * * *

6.7.3 Saturation—(including EDDM) Carrier-Route Bundles on a 5-Digit/Direct Container (Saturation-CR Bundles/Container Discount Eligibility)—Flats

[Revise 6.7.3 to read as follows:]

The Saturation-CR Bundles/Container discount applies to at least 90 percent or more of the total number of active residential addresses or 75 percent or more of the total number of active possible delivery addresses on each carrier route that is palletized under 705.8.0, 705.10.0, 705.12.0, or 705.13.0 on the following type of pallet entered at an Origin (None), DSCF/LPC, or DDU/S&DC entry, or in a carrier-route sack or tub under 245.9.7a or 203.5.8 and entered at the DDU/S&DC:

* * * * *

6.7.4 Saturation USPS Marketing Mail Flat-Shaped Pieces SCF-Pallet Discount Eligibility

[Revise 6.7.4 to read as follows:]

The SCF-pallet discount applies to at least 90 percent or more of the total number of active residential addresses, or 75 percent or more of the total number of active possible delivery addresses, on each carrier route that are palletized under 705.8.10.3d, 705.8.10.3e, and 705.8.10.3f and entered at Origin (None) or DSCF/LPC entry.

7.0 Eligibility Standards for Automation USPS Marketing Mail

* * * * *

7.2 Eligibility Standards for Full-Service Automation USPS Marketing Mail

All pieces entered under the full-service Intelligent Mail automation option must:

* * * * *

[Revise 7.2(c) to read as follows:]

c. Be scheduled for an appointment through the Facility Access and Shipment Tracking (FAST) system when deposited as a DSCF drop shipment.

[Revise section 7.3 to read as follows:]

7.3 Maximum Weight for Automation Letters

Maximum weight limit for automation price letters is 3.5 ounces (0.2188 pound). See 201.3.6, for pieces heavier than 3 ounces.

* * * * *

[Revise section 7.4 to read as follows:]

7.4 Price Application for Automation Letters

7.4.1 General

Automation prices apply to each piece that is sorted under 245.10.0, into the corresponding qualifying groups:

a. Groups of 150 or more pieces in 5-digit/scheme trays qualify for the 5-digit price. Preparation to qualify for that price is optional. Pieces placed in full AADC trays under 245.7.5 in lieu of 5-digit/scheme overflow trays are eligible for 5-digit prices (see 245.7.5.)

b. Groups of fewer than 150 pieces in origin/entry AADC trays qualify for the AADC price. Pieces placed in mixed AADC trays under 245.7.5 in lieu of AADC overflow trays also are eligible for AADC prices (see 245.7.5).

c. Pieces in mixed AADC trays qualify for the mixed AADC price, except for pieces prepared under 7.4b.

7.4.2 5-Digit USPS Marketing Mail Letter-Shaped Pieces SCF-Pallet Discount Eligibility

The SCF-pallet discount applies to 5-digit-eligible USPS Marketing Mail letter-shaped pieces that are palletized under 705.8.10.3a to 705.8.10.3f and entered at Origin (None) or DSCF/LPC entry.

7.4.3 AADC USPS Marketing Mail Letter-Shaped Pieces SCF-Pallet Discount Eligibility

The SCF-pallet discount applies to AADC-eligible USPS Marketing Mail letter-shaped pieces that are palletized under 705.8.10.3e and 705.8.10.3f and entered at Origin (None) or DSCF/LPC entry.

[Revise section 7.5 to read as follows:]

7.5 Price Application for Automation Flats

7.5.1 General

Automation prices apply to each piece properly sorted into qualifying groups:

a. The 5-digit price applies to flat-size pieces in a 5-digit/scheme bundle or 15 or more pieces, as applicable.

b. The 3-digit price applies to flat-size pieces in a 3-digit/scheme bundle.

c. The ADC price applies to flat-size pieces in an ADC bundle of 10 or more pieces.

d. The mixed ADC price applies to flat-size pieces in mixed ADC bundles (no minimum).

7.5.2 5-Digit USPS Marketing Mail Flat-Shaped Pieces SCF-Pallet Discount Eligibility

The SCF-pallet discount applies to 5-digit-eligible USPS Marketing Mail flat-shaped pieces that are palletized under 705.8.10.3d, 705.8.10.3e, and 705.8.10.3f and entered at Origin (None) or DSCF/LPC entry.

7.5.3 3-Digit USPS Marketing Mail Flat-Shaped Pieces SCF-Pallet Discount Eligibility

The SCF-pallet discount applies to 3-digit-eligible USPS Marketing Mail flat-shaped pieces that are palletized under 705.8.10.3e and 705.8.10.3f and entered at Origin (None) or DSCF/LPC entry.

7.5.4 ADC USPS Marketing Mail Flat-Shaped Pieces SCF-Pallet Discount Eligibility

The SCF-pallet discount applies to ADC-eligible USPS Marketing Mail flat-shaped pieces that are palletized under 705.8.10.3e and 705.8.10.3f and entered at Origin (None) or DSCF/LPC entry.

* * * * *

245 Mail Preparation

1.0 General Information for Mail Preparation

* * * * *

1.3 Terms for Presort Levels

1.3.1 Letters

Terms used for presort levels are defined as follows: * * *

[Delete item (j) in its' entirety; renumber items (k) and (l) as (j) and (k) respectively:]

* * * * *

1.3.2 Flats

Terms used for presort levels are defined as follows: * * *

[Delete item (o) in its' entirety; renumber items (p) and (q) as (o) and (p) respectively:]

* * * * *

1.4 Preparation Definitions and Instructions

For purposes of preparing mail: * * *

[Revise item (u) to read as follows:]

u. Entry [facility] (or origin [facility]) refers to the USPS mail processing facility (e.g., “entry SCF”) that serves the Post Office at which the mail is entered by the mailer. If the Post Office where the mail is entered is not the one serving the mailer's location (e.g., for plant-verified drop shipment), the Post Office of entry determines the entry facility. Entry SCF/LPC (letter and flats) and Entry SCF/RPDC (parcels) includes both single-3-digit and multi-3-digit SCFs.

* * * * *

5.0 Preparing Nonautomation Letters

* * * * *

5.3 Machinable Preparation

* * * * *

5.3.2 Traying and Labeling

* * * * *

c. Mixed AADC (required); no minimum; labeling:

[Revise item c(1) to read as follows:]

1. Line 1: L009, Column B. * * *

* * * * *

5.4 Nonmachinable Preparation

* * * * *

5.4.2 Traying and Labeling

* * * * *

d. Mixed ADC (required); no minimum; labeling:

[Revise item d(1) to read as follows:]

1. Line 1: L009, Column B. * * *

* * * * *

6.0 Preparing Enhanced Carrier Route Letters

* * * * *

6.3 Residual Pieces

[Revise 6.3 to read as follows:]

Pieces not sorted as a carrier route mailing must be prepared as a separate mailing at USPS Marketing Mail automation or Presorted prices or at the applicable single-piece First-Class Mail—Retail price.

* * * * *

6.7 Traying and Labeling for Automation-Compatible ECR Letters

* * * * *

a. Carrier route: required; full trays only, no overflow.

[Revise item a(2) to read as follows:]

2. Line 2: for saturation, “STD LTR BC WSS,” followed by route type and number; for high-density, “STD LTR BC WSH,” followed by route type and number.

* * * * *

7.0 Preparing Automation Letters

* * * * *

7.5 Tray Preparation

* * * * *

[Revise item (c) to read as follows:]

c. Mixed AADC: required (no minimum); group pieces by AADC when overflow pieces from AADC trays are placed in mixed AADC trays. For Line 1 labeling: use L011, Column B.

* * * * *

11.0 Preparing Presorted Parcels

* * * * *

11.3 Preparing Machinable Marketing Parcels (3.5 Ounces or More) and Nonprofit Machinable Priced Parcels

11.3.1 Sacking

The following apply: * * *

[Revise item (b) to read as follows:]

b. Prepare 5-digit sacks only for parcels dropshipped to a DSCF/DSCF, or DDU or DS&DC.

[Revise item (c) to read as follows:]

c. Prepare ASF/RPDC or NDC/RPDC sacks only for parcels claiming NDC prices.

* * * * *

11.3.2 Sacking and Labeling

[Revise 11.3.2 to read as follows:]

Preparation sequence, sack size, and labeling:

a. 5-digit/scheme (optional, but required for 5-digit price), see definition in 1.4n.; allowed only for mail deposited at a DSCF/RPDC or DDU/S&DC. Sacks must contain a 10-pound minimum except at DDU/S&DC entry, which has no minimum; labeling:

1. Line 1: For 5-digit scheme sacks, use L606, Column B. For 5-digit sacks, use city, state, and 5-digit ZIP Code destination on pieces (see 203.5.11 for overseas military mail).

2. Line 2: For 5-digit scheme sacks, “STD MACH 5D SCH.” For 5-digit sacks, “STD MACH 5D.”

b. ASF (optional), 10-pound minimum; labeling:

1. Line 1: L602, Column B.

2. Line 2: “STD MACH ASF.”

c. NDC, 10-pound minimum; labeling:

1. Line 1: L601, Column B.

2. Line 2: “STD MACH NDC.”

d. Origin NDC (required), no minimum; labeling:

1. Line 1: L601, Column B.

2. Line 2: “STD MACH NDC.”

e. Mixed NDC (required); no minimum; labeling:

1. Line 1: Use “MXD” followed by L601, Column B information for facility serving 3-digit ZIP Code prefix of entry Post Office.

2. Line 2: “STD MACH WKG.”

* * * * *

11.4 Preparing Nonstandard Marketing Parcels (Less Than 3.5 Ounces) and Nonprofit Nonstandard Priced Parcels

* * * * *

11.4.2 Sacking

The following apply: * * *

[Revise item (b) to read as follows:]

b. Prepare 5-digit sacks only for parcels dropshipped to a DSCF/RPDC or DDU or SDC.

* * * * *

11.4.3 Sacking and Labeling

[Revise 11.4.3 to read as follows:]

Preparation sequence, sack size, and labeling:

a. 5-digit/scheme (optional, but required for 5-digit price), see definition in 1.4n; allowed only for mail deposited at a DSCF/RPDC or DDU/S&DC. Sacks must contain a 10-pound minimum except at DDU/S&DC entry, which has no minimum; labeling:

1. Line 1: For 5-digit scheme sacks, use L606, Column B. For 5-digit sacks, use city, state, and 5-digit ZIP Code destination on pieces (see 203.5.11 for overseas military mail).

2. Line 2: For 5-digit scheme sacks, “STD NONSTD 5D SCH.” For 5-digit sacks, “STD NONSTD 5D.”

b. SCF, 10-pound minimum; labeling:

1. For Line 1, Use L002, Column C.

2. For Line 2, “STD NONSTD SCF.”

c. ASF (optional), 10-pound minimum; labeling:

1. Line 1: Use L602, Column B.

2. Line 2: “STD NONSTD ASF.”

d. NDC, 10-pound minimum; labeling:

1. Line 1: Use L601, Column B information for the facility serving the 3-digit ZIP Code prefix of the entry Post Office..

2. Line 2: “STD NONSTD NDC.”

e. Origin NDC (required); no minimum; labeling:

1. Line 1: L601, Column B.

2. Line 2: “STD NONSTD NDC.”

f. Mixed NDC (required); no minimum; labeling:

1. Line 1: “MXD” followed by L601, Column B information for facility serving 3-digit ZIP Code prefix of entry Post Office.

2. Line 2: “STD NONSTD WKG.”

* * * * *

246 Enter and Deposit

* * * * *

2.0 Destination Entry

* * * * *

2.6 Deposit

* * * * *

2.6.3 Appointments

Appointments must be made for destination entry-price mail as follows:

[Revise the first sentence of item (a) to read as follows:]

a. Except as provided under 2.6.3b, or for a local mailer and mailings of perishable commodities under 2.6.13, appointments for deposit of destination entry price mail at SCFs must be scheduled through the appropriate drop-shipment appointment control center at least one business day in advance. * * *

* * * * *

2.6.5 Adherence to Schedule

[Revise the second sentence of 2.6.5 to read as follows:]

* * * Destination facilities may refuse acceptance or deposit of unscheduled mailings or shipments that arrive more than 2 hours after the scheduled appointment at SCFs/LPCs or more than 20 minutes after the scheduled appointment at delivery units.

2.6.6 Redirection by USPS

[Revise 2.6.6 to read as follows:]

A mailer may be directed to transport destination entry-price mailings to a facility other than the designated DDU/S&DC, SCF/LPC (letters/flats), or SCF/RPDC (parcels) due to facility restrictions, building expansions, peak-season mail volumes, or emergency constraints.

* * * * *

2.6.9 Vehicle Unloading

Unloading of destination entry mailings is subject to these conditions:

[Revise items (a) and (b) to read as follows:]

a. Properly prepared containerized loads (e.g., pallets) are unloaded by USPS at SCFs/LPCs. The USPS does not unload or permit the mailer (or mailer's agent) to unload palletized loads that are unstable or severely leaning or that have otherwise not maintained their integrity in transit.

b. At SCFs/LPCs, the driver must unload bedloaded shipments within 8 hours of arrival. Combination containerized and bedloaded mailings are classified as bedloaded shipments for unload times. The USPS may assist in unloading.

* * * * *

[Delete 3.0 in its' entirety; renumber 4.0 and 5.0 as 3.0 and 4.0 respectively:]

* * * * *

260 Commercial Mail Bound Printed Matter

263 Prices and Eligibility

* * * * *

4.0 Price Eligibility for Bound Printed Matter

* * * * *

4.2 Destination Entry Price Eligibility

[Revise the introductory paragraph of 4.2 to read as follows:]

BPM destination entry prices apply to BPM mailings prepared as specified in 705.8.0, 705.14.0 and 265, and addressed for delivery within the service area of a sectional center facility/local processing center or delivery unit where the mailer deposited them. For this standard, the following destination facility definitions apply:

[Delete item (a) in its entirety; renumber items (b) and (c) as (a) and (b) respectively:]

* * * * *

6.0 Additional Eligibility Standards for Full-Service Bound Printed Matter Flats

* * * * *

6.2 Eligibility Standards for Full-Service Automation Bound Printed Matter Flats

All pieces entered under the full-service Intelligent Mail automation option must: * * *

[Revise item (c) to read as follows:]

c. Be scheduled for an appointment through the Facility Access and Shipment Tracking (FAST) system when deposited as a DSCF dropshipment.

* * * * *

265 Mail Preparation

1.0 General Information for Mail Preparation

* * * * *

1.4 Terms for Presort Levels

Terms used for presort levels are defined as follows: * * *

[Revise item (i) to read as follows:]

i. ADC: all pieces in the bundle, sack, or tray must destinate within the facility service area as specified in labeling lists (see L004).

[Delete item (j) in its entirety; renumber item (k) as item (j):]

j. Mixed: the pieces are for delivery in the service area of more than one facility.

1.5 Preparation Definitions and Instructions

For purposes of preparing mail: * * *

[Revise item (k) to read as follows:]

k. Entry [facility] (or origin [facility]) refers to the USPS mail-processing facility (e.g., “entry SCF”) that serves the Post Office where the mailer entered the mail. If the Post Office where the mail is entered is not the one serving the mailer's location (e.g., for plant-verified drop shipment), the Post Office of entry determines the entry facility. Entry SCF/LPC (flats)/RPDC (parcels) includes both single-3-digit and multi-3-digit SCFs.

* * * * *

8.0 Preparing Presorted Parcels

* * * * *

8.2 Preparing Nonstandard Parcels

* * * * *

8.2.3 Sacking and Labeling

Preparation sequence and labeling: * * *

e. Mixed ADC (required); labeling:

[Revise item (e1) to read as follows:]

1. Line 1: Use L009, Column B. * * *

* * * * *

[Revise the title of 8.3 to read as follows:]

8.3 Preparing Machinable Parcels

8.3.1 Required Sacking

[Revise the second sentence of 8.3.1 to read as follows:]

* * * Smaller volumes are not permitted (except origin (mixed) sacks). * * *

* * * * *

[Revise 8.3.2 to read as follows:]

8.3.2 Sacking and Labeling

Preparation sequence and labeling:

a. 5-digit/scheme (required); labeling:

1. Line 1: For 5-digit scheme sacks, use L606, Column B. For 5-digit sacks, use city, state, and 5-digit ZIP Code on mail (see 203.5.11 for overseas military mail).

2. Line 2: For 5-digit scheme sacks, “PSVC MACH 5D SCH.” For 5-digit sacks, “PSVC MACH 5D.”

b. Mixed (required); labeling:

1. Line 1: “MXD” followed by the L601, Column B, information for the facility serving the 3-digit ZIP Code prefix of entry Post Office.

2. Line 2: “PSVC MACH WKG.”

[Delete 8.4 in its entirety:]

9.0 Preparing Carrier-Route Parcels

9.1 Basic Standards

9.1.1 General Standards for Carrier Route Preparation

All mailings of carrier-route Bound Printed Matter (BPM) are subject to the standards in 9.2 through 9.4 and to these general standards: * * *

[Revise the last sentence of item (b) to read as follows:]

b. * * * Nonstandard parcels also are pieces that meet the size and weight standards for a machinable parcel but are not individually boxed or packaged to withstand processing on RPDC parcel sorters under 601.3.0 and 601.4.0.

* * * * *

266 Enter and Deposit

* * * * *

3.0 Destination Entry

3.1 General

[Revise the first sentence of 3.1 to read as follows:]

Destination entry prices apply to Presorted and carrier-route Bound Printed Matter (BPM) that is deposited at a destination sectional center facility (DSCF)/local processing center (LPC) or destination delivery unit (DDU)/sorting and delivery center (S&DC) as specified below. * * *

* * * * *

3.3 Postage Payment and Mailing Fees

Postage payment for Bound Printed Matter destination price mailings is subject to the same standards that apply generally to Bound Printed Matter and to the following:

[Revise the second sentence of item (a) to read as follows:]

a. * * * Except for plant-verified drop shipments (see 705.17.0) and USPS Ship shipments (see 705.2.6); mailers must have a permit imprint authorization at the parent Post Office for mailings deposited for entry at a DSCF/LPC (flats)/RPDC (parcels) or a DDU/S&DC. * * *

* * * * *

3.8 Deposit

* * * * *

3.8.3 Appointments

Appointments must be made for destination entry price mail as follows:

[Revise the first sentence of item (a) to read as follows:]

a. Except as provided under 3.8.3b, or for a local mailer and mailings of perishable commodities under 3.8.12, appointments for deposit of destination entry-price mail at SCFs/LPCs must be scheduled through the appropriate drop-shipment appointment control center at least one business day in advance. * * *

* * * * *

3.8.5 Adherence to Schedule

[Revise the last sentence of 3.8.5 to read as follows:]

* * * Destination facilities may refuse acceptance or deposit of unscheduled mailings or shipments that arrive more than 2 hours after the scheduled appointment at SCFs/LPCs or more than 20 minutes after the scheduled appointment at delivery units.

3.8.6 Redirection by USPS

[Revise the text of 3.8.6 to read as follows:]

A mailer may be directed to transport destination entry-price mailings to a facility other than the designated DDU/S&DC or SCF/LPC due to facility restrictions, building expansions, peak-season mail volumes, or emergency constraints.

* * * * *

3.8.9 Vehicle Unloading

Unloading of destination entry mailings is subject to these conditions:

[Revise the first sentence of item (a) to read as follows:]

a. Properly prepared containerized loads (e.g., pallets) are unloaded by the USPS at SCFs. * * *

[Delete item (b) in its entirety; renumber items (c) through (e) as (b) through (d) respectively:]

* * * * *

[Delete 4.0 in its entirety; renumber 5.0 and 6.0 as 4.0 and 5.0 respectively:]

270 Commercial Mail Media Mail and Library Mail

273 Prices and Eligibility

* * * * *

1.0 Prices and Fees

* * * * *

[Revise 1.2 to read as follows]

1.2 Prices

Media Mail and Library Mail prices are based on the weight of the piece. See Notice 123—Price List for single-piece prices.

* * * * *

[Delete section 7.0 in its' entirety]

* * * * *

275 Mail Preparation

[Revise section 275 to read as follows:]

1.0 Preparation for Media Mail and Library Mail

1.1 Basic Preparation

There are no presort, sacking, or labeling standards for single-piece Media Mail or Library Mail.

1.2 Delivery and Return Addresses

All Media Mail and all Library Mail must bear a delivery address that includes the correct ZIP Code or ZIP+4 code. Each piece must bear the sender`s return address.

1.3 Basic Markings

The applicable basic required marking—“Media Mail” or “Library Mail”—must be printed on each piece in the postage area, or it may be printed on the shipping address label according to the standards in 102.3.4.

* * * * *

276 Enter and Deposit

Overview

[Revise 1.0 to read as follows:]

1.0 Deposit for Media Mail and Library Mail

1.0 Deposit for Media Mail and Library Mail

Single-piece Media Mail and Library Mail with a permit imprint must be deposited at locations and times specified by the postmaster at the office that verifies and accepts the mailing. Metered mail may be deposited at other than the licensing Post Office only as permitted under 705.19.0.

* * * * *

600 Basic Standards for All Mailing Services

* * * * *

602 Addressing

* * * * *

[Revise the Title of 4.0 to read as follows:]

4.0 Detached Address Labels (DALs)

4.1 General

4.1.1 Definition

[Revise the text of 4.1.1 to read as follows:]

Detached address labels (DALs) in its' basic form (4.3.1 through 4.3.5) may be used by mailers as an optional method of printing addresses and postage indicia instead of printing addresses and postage on the items mailed. For these standards, “item” refers to the types of eligible mail described in 4.2.1 through 4.2.3.

4.1.2 Alternative Address Format

[Revise the text of 4.1.2 to read as follows:]

DALs may have alternative addressing formats under 3.0, subject to the applicable standards under 4.0

4.1.3 Ancillary Service Endorsements

[Revise the text of 4.1.3 to read as follows:]

Ancillary service endorsements are not permitted. A DAL that is undeliverable as addressed is handled under 507.1.1 through 507.1.9 for the applicable class of mail. The accompanying item is treated as specified by the mailer under 4.5.

4.1.4 Documentation

[Revise the text of 4.1.4 to read as follows:]

When requested by USPS, DAL mailers must provide documentation to establish that the applicable distribution standards in 4.2.1 through 4.2.3 are met.

4.1.5 Extra Services

[Revise the text of 4.1.5 to read as follows:]

Items mailed with DALs may not be combined with any extra service.

4.2 Eligible Mail

4.2.1 Periodicals or USPS Marketing Mail Flats Saturation Mailings

[Revise the text of 4.2.1 to read as follows:]

Saturation mailings of only unaddressed Periodicals (207.23.9.4) or USPS Marketing Mail (245.9.10.4) flats may be mailed with DALs, but DALs may not bear simplified addresses when used with USPS Marketing Mail flats. Saturation flat mailings presented with DALs that are not automation-compatible and correctly barcoded do not qualify for saturation prices. Instead, they may be entered at applicable basic carrier route prices. This standard (for automation-compatible barcoded DALs) does not apply to DALs with simplified addressing when correctly used with Periodicals flats.

4.2.2 Bound Printed Matter

Revise the text of 4.2.2 to read as follows:]

Unaddressed pieces of Bound Printed Matter may be mailed with DALs when:

a. The mail is prepared on 5-digit pallets meeting the standards in 705.8.0. (Exception: Separate 5-digit pallets of carrier route and Presorted price mail are not required for flat-size mail.) The destination delivery unit (DDU)/sorting and delivery center (S&DC) is determined using the Drop Shipment Product under the provisions for the DDU price in 266.3.0 through 266.6.0. The mail may not be prepared on pallets when the Drop Shipment Product indicates that the delivery unit that serves the 5-digit pallet destination cannot handle pallets. For such delivery units, mail with DALs must be prepared in sacks. The trays or cartons of DALs must be prepared under 4.4, placed on the same pallet as the pieces, and must be stretch-wrapped together as one unit.

b. The mail is prepared in 5-digit sacks and entered at the destination delivery unit. The destination delivery unit is determined by using the Drop Shipment Product under the provisions for the DDU price in 266.3.0 through 266.6.0. DALs must be bundled under 4.4 and presented to the destination delivery unit with the accompanying items to be distributed with the DALs.

4.3 Label Preparation

4.3.1 Label Construction

[Revise the text of 4.3.1 to read as follows:]

Each DAL must be made of paper or cardboard stock that is not folded, perforated, or creased, and that meets these measurements:

a. Between 3½ and 5 inches high (perpendicular to the address).

b. Between 5 and 9 inches long (parallel to the address).

c. At least 0.007 inch thick, except under 4.3.1d.

d. If more than 4¼ inches high or more than 6 inches long, must be at least 0.009 inch thick.

e. Must have an aspect ratio (length divided by height) from 1.3 to 2.5, inclusive.

4.3.2 Addressing

[Revise the text of 4.3.2 to read as follows:]

The address for each item must be placed on a DAL, parallel to the longest dimension of the DAL, and may not appear on the item it accompanies. The DAL must contain a delivery address and a return address. In addition, if DALs accompany saturation mailings of Periodicals or USPS Marketing Mail flats, a correct Intelligent Mail barcode with an 11-digit routing code must be printed on each DAL except when using a simplified address for Periodicals flats as allowed by standards.

[Revise 4.3.3 in its' entirety to read as follows:]

4.3.3 One DAL Per Item

Only one DAL may be prepared for each accompanying item, and only one item may be identified for delivery per DAL. (A single DAL may not be prepared to deliver one each of different accompanying items or multiples of the same item.)

4.3.4 Required Information

[Revise the text of 4.3.4 to read as follows:]

The following words must appear in bold type at least ⅛ inch high on the front of each DAL: “USPS regulations require that this address label be delivered with its accompanying postage-paid mail. If you should receive this label without its accompanying mail, please notify your local postmaster”; The title or brand name of the item (which may include an illustration of the item) must also appear on the front or back of the DAL to associate it with the accompanying item.

* * * * *

[Delete 4.3.6 in its' entirety:]

4.4 Mail Preparation

4.4.1 Notice to Delivery Office

[Revise the text of 4.4.1 to read as follows:]

Each delivery office to receive a DAL mailing must be notified in writing at least 10 days before the requested delivery period begins. To ensure that the delivery office can readily relate the notice to the cartons containing the corresponding items, a copy of that letter must be enclosed with the DALs unless the initial notice and the cartons used for the DALs and items each conspicuously bears a mailing identification number. The letter must contain the following information:

a. Name and telephone number of mailer or representative.

b. Origin Post Office of mailing.

c. Expected mailing date.

d. Description of mailing.

e. Number of addressees for each 5-digit ZIP Code.

f. Number of DALs per carton or bundle.

g. Number of items per carton or bundle.

h. Expected delivery period (range of dates).

i. Requested action for excess or undeliverable DALs or items (see 4.5).

[Revise 4.4.2 in its' entirety to read as follows:]

4.4.2 Basic Standards for DALs

The following apply:

a. The DALs must be presorted, counted, and prepared by 5-digit ZIP Code delivery area.

b. Only DALs for the same 5-digit area may be placed in the same carton, sack, or tray.

c. DAL mailings claimed at carrier-route basic or walk-sequence prices must be further prepared under the corresponding standards.

d. Mailers must prepare DALs as bundles in sacks or in cartons, unless prepared in trays under 4.4.6 when mailed with saturation flats.

e. Different size cartons may be used in the same mailing, but each must be filled with dunnage as necessary to ensure that the DALs retain their orientation and presort integrity while in transit.

f. Each carton of DALs must bear a label showing the information in 4.4.5 unless a mailing identification number is used (see 4.4.1).

g. Multiple containers of DALs must be numbered sequentially (“1 of _,” “2 of _,” etc.).

[Revise the title of 4.4.3 to read as follows:]

4.4.3 Basic Standards for Items Distributed With DALs

The following apply:

[Revise item (a) to read as follows:]

a. Except for bundles of saturation flats placed directly on pallets under 4.4.7, the items to be distributed with DALs must be placed in cartons or prepared in bundles placed in flat trays/sacks, subject to the standards for the price claimed.

* * * * *

4.4.4 Combined Cartons

[Revise the introductory paragraph of 4.4.4 to read as follows:]

DALs and the accompanying items may be enclosed in the same carton when sent to a small volume 5-digit ZIP Code area. If the DALs and the accompanying items are packed together, these standards apply:

[Revise item (a) to read as follows:]

a. The DALs must be bundled and labeled under 4.4.2 and placed on top of the items.

[Revise item (d) to read as follows:]

d. The exterior of the carton must be labeled under 4.4.5 and marked “DALs ENCLOSED” in letters not less than ½ inch high.

4.4.5 Container Labels

[Revise the first sentence the introductory paragraph of 4.4.5 to read as follows:]

Sacks, flat trays, cartons, and pallets of DAL mail must be labeled under the preparation standards for the price claimed. * * *

[Revise item (e) to read as follows:]

a. Instructions to open and distribute either the DALs with matching items or the items with matching DALs as appropriate.

4.4.6 Optional Tray and Bundle Preparation

[Revise the text of 4.4.6 to read as follows:]

The following apply:

a. Mailers may prepare DALs in letter trays according to 245.9.0 when DALs are used in mailings of saturation flats.

b. Bundles of saturation flats to be distributed with DALs may be prepared on 5-digit pallets under 4.4.7.

c. Pallets must not be used when the Drop Shipment Product specifies that the delivery unit that serves the 5-digit pallet destination cannot handle pallets. For such delivery units, mail with DALs must be prepared in cartons, flat trays, or sacks. The tray(s) of corresponding DALs must be placed on top of the accompanying pallet of flats, and the pallet contents must be secured with stretchwrap to avoid separation in transportation and processing.

d. All containers must be labeled according to 4.4.5.

4.4.7 Optional Container Preparation

[Revise the text of 4.4.7 to read as follows:]

Bundles of flats and cartons, flat trays, or sacks of items may be placed on pallets meeting the standards in 705.8.0. Cartons or trays of DALs must be placed on pallets with the corresponding items under 4.4 and 705.8.0. The USPS plant manager at whose facility a DAL mailing is deposited may authorize other containers for the portion of the mailing to be delivered in that plant's service area.

4.5 Disposition of Excess or Undeliverable Material

[Revise the introductory paragraph of 4.5 to read as follows:]

The letter required under 4.4.1 must either request that the delivery office contact the mailer (or representative) about excess DALs, items, or provide instructions for their treatment. (If the mailer does not provide information about excess DALs, or items, such material is disposed of as waste by the USPS.) The mailer must choose one of the following options for each DAL mailing and the items: * * *

[Revise item (d) to read as follows:]

d. Holding of the excess material while additional DALs or items are supplied (as applicable). If additional material is not supplied within 15 days of the notice to the mailer, the excess material is returned to the mailer postage due. Additional material must be sent prepaid to the delivery Post Office as First-Class Mail, USPS Ground Advantage—Retail, Priority Mail, or Priority Mail Express.

4.6 Postage

4.6.1 Prices

[Revise the text of 4.6.1 to read as follows:]

DAL mailings are not eligible for automation prices, but the pieces may qualify for carrier route prices, subject to applicable standards. Mailers must pay a surcharge for each DAL used with USPS Marketing Mail flats. See Notice 123—Price List for prices.

4.6.2 Postage Computation and Payment

[Revise the text of 4.6.2 to read as follows:]

Postage is computed based on the combined weight of the item and the accompanying DAL. If the number of DALs and items mailed is not identical, the number of pieces used to determine postage is the greater of the two. No postage refund is allowed in these situations. In addition, these methods of postage payment apply:

c. Periodicals flats must be prepaid. A notice of entry must appear in the upper right corner of the DAL.

d. USPS Marketing Mail flats (except EDDM flats) and parcels and Bound Printed Matter pieces must be paid by permit imprint, which must appear on each DAL.

e. A surcharge applies to each DAL used in a USPS Marketing Mail flats mailing.

4.6.3 Returns

[Revise the text of 4.6.3 to read as follows:]

Postage for excess or undeliverable DALs that are properly endorsed, or for items being returned, is computed at the single-piece price (First-Class Mail, USPS Ground Advantage—Retail, Priority Mail, or Package Services) applicable to the combined weight of the DAL and the accompanying item, regardless of whether both are returned. The total amount due for returned material, which includes the return postage and the applicable address correction fee for each DAL or item returned, is collected when the material is returned to the mailer.

4.6.4 Additional Items

[Revise the text of 4.6.4 to read as follows:]

Postage for additional material (DALs or items) mailed to the USPS under 4.5d must be prepaid as First-Class Mail, Priority Mail, or Priority Mail Express, subject to the eligibility standards for the price claimed and the conditions in 4.6.2.

* * * * *

11.0 Commercial Plus One Mailpieces

11.1 Definition

[Revise the text of 11.1 to read as follows:]

The commercial mail Plus One product is a bundled offering, including a host Marriage Mail (combining multiple advertisers within a single mailpiece) mailpiece and a Plus One card. Both the host mailpiece and the Plus One card must meet the applicable basic standards of a USPS Marketing Mail saturation letter or saturation flat as specified in 245.6.0 and 245.9.0 and meet automation standards with a correct mailing address and Intelligent Mail barcode. For flat-sized host mailpieces, the host piece must be entered at a DDU, SDC or DSCF/LPC. The Plus One Card must be entered at a DSCF/LPC within 2 business days from entering the host mail piece to receive Plus One pricing. For letter-sized host mailpieces, the host piece must be entered at a DSCF/LPC. The Plus One Card must be entered at a DSCF/LPC within 2 business days from entering the host mailpiece to receive Plus One pricing.

The Plus One mailpiece (card) must meet the following additional standards:

a. Be addressed to the same delivery points as the host mailpiece.

b. Be sorted and presented separately from the host piece.

c. Must not exceed 6 inches long by 11 inches high.

d. Must be at least 0.009 inches thick and card stock.

e. Must have “Plus One” marking directly below Permit indicia.

11.2 Mail Preparation

[Revise the text of 11.2 to read as follows:]

Each Plus One mailing must be trayed and labeled according to 245.6.7 or 245.9.7. Palletized mailings must be prepared according to 705.8.10.3.

* * * * *

604 Postage Payment Methods and Refunds

* * * * *

5.0 Permit Imprint (Indicia)

* * * * *

5.3 Indicia Design, Placement, and Content

* * * * *

Exhibit 5.3.11 Indicia Formats for Official Mail and Other Classes

[In Exhibit 5.3.11 under “Package Services” to revise the Presorted Media Mail indicia to read as Media Mail:]

* * * * *

608 Postal Information and Resources

* * * * *

2.0 Domestic Mail

* * * * *

2.6 Alaska Bypass Service

2.6.1 Prices

[Revise 2.6.1 to read as follows:]

Alaska Bypass Service prices are based on the weight of the shipment.

* * * * *

700 Special Standards

703 Nonprofit USPS Marketing Mail and Other Unique Eligibility

* * * * *

9.0 Mixed Classes

* * * * *

9.2 Eligibility for Attachments of Different Classes

* * * * *

9.2.2 Price Qualification

If a Periodicals, USPS Marketing Mail, Parcel Select, or Package Services host piece qualifies for: * * *

[Revise the first sentence of item (d) to read as follows:]

d. A destination entry price (DDU, DSCF, or DADC), a USPS Marketing Mail attachment is eligible for the comparable destination entry price. * * *

* * * * *

[Revise 9.6 to read as follows:]

9.6 Eligibility for Combined Mailing of Media Mail and Bound Printed Matter

9.6.1 Machinable Parcels

A mailer may combine into one parcel separate and distinguishable pieces of Media Mail and Bound Printed Matter for the same addressee, if these combined pieces form a regular machinable parcel as defined in 201.7.5.

9.6.2 Presorted Prices

Presorted prices may be claimed, subject to the applicable preparation standards.

* * * * *

705 Advanced Preparation and Special Postage Payment Systems

* * * * *

2.0 Manifest Mailing System

* * * * *

2.3 Keyline

* * * * *

2.3.5 Unique ID Number Location—Itemized Mailings

[Revise the last sentence of 2.3.5 to read as follows:]

* * * The numbers must be printed in overall ascending order, or in ascending order within each zone, 5-digit, or 3-digit ZIP Code area on the manifest.

2.4 Authorization

* * * * *

2.4.3 General Requirements for Authorization

General requirements for authorization are as follows: * * *

[Revise the last sentence of item c(3) to read as follows:]

3. * * * Parcels mis-shipped at destination SCFs are handled through parcel sampling and are treated as underpaid parcels.

* * * * *

5.0 First-Class Mail or USPS Marketing Mail Mailings With Different Payment Methods

* * * * *

5.2 Postage

* * * * *

5.2.6 Single-Piece Price Mail

[Revise 5.2.6 to read as follows:]

With USPS approval, trays of single-piece price mail may be placed on the origin SCF/LPC pallet (First-Class Mail), or the mixed pallet (USPS Marketing Mail), after USPS verification is completed.

* * * * *

6.0 Combining Mailings of USPS Marketing Mail, Package Services, and Parcel Select Parcels

6.1 Basic Standards for Combining Parcels

6.1.1 Basic Standards

USPS Marketing Mail parcels, Package Services parcels, and Parcel Select parcels in combined mailings must meet the following standards: * * *

[Revise the first sentence of item (d) to read as follows:]

d. Minimum volume requirements for USPS Marketing Mail, Parcel Select, and Presorted Bound Printed Matter must be met separately and are based solely on the quantity of pieces eligible for each price at the required presort level. * * *

* * * * *

[Delete 6.2 in its' entirety; renumber 6.3 and 6.4 as 6.2 and 6.3 respectively:]

* * * * *

[Newly renumbered as 6.2]

6.2 Combining Parcels—DSCF and DDU Prices

6.2.1 Qualification

Combination requirements for specific discounts and prices are as follows:

[Revise items (a) and (b) to read as follows:]

a. When the mailer pays DSCF prices, Parcel Select, USPS Marketing Mail, and Bound Printed Matter parcels may be combined under 6.2.

b. All USPS Marketing Mail parcels may be combined with Package Services and Parcel Select parcels prepared for DDU prices under 6.2.

* * * * *

[Renumbered 6.3]

6.3 Combining Package Services, Parcel Select, and USPS Marketing Mail—Optional 3-Digit SCF/RPDC Entry

* * * * *

6.3.2 Qualification and Preparation

Parcel Select and Bound Printed Matter machinable parcels, and USPS Marketing Mail parcels may be prepared for entry at designated SCFs/RPDCs under these standards: * * *

[Delete item (c) in its' entirety; renumber items (d) through (f) as items (c) through (e) respectively:]

[Revise newly renumbered item (c) to read as follows:]

c. USPS Marketing Mail, machinable Marketing parcels (regular and Nonprofit) and Nonprofit machinable-priced parcels are eligible for the NDC/RPDC presort-level price. USPS Marketing Mail, nonstandard Marketing parcels (regular and Nonprofit) and Nonprofit nonstandard-priced parcels are eligible for the 3-digit presort-level DSCF price.

* * * * *

[Delete newly renumbered item (e) in its' entirety:]

* * * * *

7.0 Combining Package Services and Parcel Select Parcels for Destination Entry

7.1 Combining Parcels—DSCF/DRPDC and DDU OR DS&DC Entry

* * * * *

7.1.2 Basic Standards

Package Services and Parcel Select parcels that qualify as machinable and nonstandard under 201 and meet the following conditions may be combined in 5-digit scheme and 5-digit sacks or 5-digit scheme and 5-digit pallets under these conditions:

[Revise item (a) to read as follows:]

a. Minimum volume requirements for Parcel Select and Presorted Bound Printed Matter must be met separately before combining.

* * * * *

7.1.3 Combined Parcels Prepared in Sacks—Price Eligibility

In addition to the applicable standards in 255.4.0 and 266.3.0 through 266.6.0 for destination entry Parcel Select and Package Services, the following standards apply for combined parcels prepared in sacks: * * *

[Delete items (c) and (d) in its entirety; renumber item (e) as item (c) respectively:]

* * * * *

7.1.6 Combined Parcels Prepared on Pallets—Price Eligibility

In addition to the applicable standards in 255.4.0, and 266.3.0 through 266.6.0 for destination entry parcels, the following standards apply for combined parcels prepared on pallets: * * *

[Delete items (c) and (d) in its entirety; renumber item (e) as item (c) respectively:]

* * * * *

[Delete 7.2 in its' entirety; renumber 7.3 through 7.5 as 7.2 through 7.4:]

* * * * *

8.0 Preparing Pallets

* * * * *

8.5 General Preparation

8.5.1 Presort

The following apply: * * *

[Revise items (d) through (f) to read as follows:]

d. For sacks, trays, or machinable parcels on pallets, the mailer must prepare all required pallet levels before any mixed ADC or mixed pallets are prepared for a mailing or job.

e. Except as described in 15.1.3f, bundles must not be placed on mixed ADC or mixed pallets. Bundles that cannot be placed on pallets must be prepared in sacks under the standards for the price claimed.

f. The standards for bundle reallocation to protect the SCF/LPC (sectional center facility/local processing center) (letters, flats)/RPDC (parcels), or ADC pallet (8.11 and 8.14) are optional methods of pallet preparation designed to retain as much mail as possible at the SCF/LPC (letters, flats)/RPDC (parcels), or ADC level.

* * * * *

8.5.2 Required Preparation

The following standards apply to Periodicals, USPS Marketing Mail, Parcel Select, and Package Services, except Parcel Select mailed at DSCF and DDU prices: * * *

[Revise items (b) and (c) to read as follows:]

b. For bundles of flat-size mailpieces or bundles of nonstandard parcels on pallets, after preparing all possible pallets under 8.5.2a, when 250 or more pounds of bundles remain for an ADC (Periodicals) or for an NDC/RPDC (USPS Marketing Mail parcels), mailers must prepare the ADC or Mixed pallet, as applicable for the class of mail. Exception: If no ADC or Mixed pallets are in a mailing and 250 or more pounds remain for an SCF/LPC (letters, flats)/RPDC (parcels), mailers must prepare the SCF/LPC (letters, flats)/RPDC (parcels) pallet.

c. Bundles that cannot be placed on an ADC, Mixed, or SCF/LPC (letters, flats)/RPDC (parcels) pallet may be placed on mixed ADC pallets if allowed by the specific standards for the class and shape of mail, or be placed in sacks or flat trays (when applicable) (see 8.9.1).

8.5.3 Minimum Load

The following minimum load standards apply to mail prepared on pallets: * * *

[Revise items (3) and (4) to read as follows:]

3. The minimum load for pallets is 200 pounds of USPS Marketing Mail parcels (machinable or nonstandard) entered at origin to claim the NDC price.

4. A pallet may contain a minimum of 100 pounds of nonletter-size mail or 12 linear feet of letter trays if it is:

a. An ADC pallet entered at the destination ADC;

b. An SCF/LPC (letters, flats)/RPDC (parcels) pallet entered at the destination SCF/LPC (letters, flats)/RPDC (parcels); or

c. The only pallet entered at an individual destination ADC or SCF/LPC (letters, flats)/RPDC (parcels) facility.

* * * * *

[Revise item (6) to read as follows:]

6. There is no minimum load for Mixed pallets of bundles or flat trays of USPS Marketing Mail flats.

* * * * *

8.5.12 Nonpalletized Mail

The following apply:

[Revise item (a) to read as follows:]

a. Mail that is not palletized (e.g., the bundles do not meet the machinability standards in 8.5.7 through 8.5.11) must be prepared under the standards for the price claimed.

* * * * *

8.8 Basic Uses

These types of mail may be palletized: * * *

[Delete item (j) in its' entirety:]

* * * * *

8.10 Pallet Presort and Labeling

8.10.1 First-Class Mail—Letter Trays or Flat Trays

* * * Preparation, sequence, and labeling:

[Revise the fourth sentence of item (a) to read as follows:]

a. * * * Pallet may contain trays only for the same 5-digit ZIP Code (for non-automation letters and flats) or 5-digit scheme ZIP codes (for automation letters and flats). * * *

[Revise the third sentence of item (b) to read as follows:]

b. * * * Pallets contain trays destined for the 3-digit ZIP Codes serviced by the origin SCF/LPC facility in L005. * * *

* * * * *

8.10.2 Periodicals—Bundles, Sacks, Letter Trays or Flat Trays

* * * Prepare pallets in the following sequence: * * *

[Revise the introductory text of item (h) to read as follows:]

h. SCF/LPC (letters, flats)/RPDC (parcels), required, permitted for bundles, trays, and sacks (nonstandard parcels only). The pallet may contain carrier-route-price, automation-price, and/or Presorted-price mail for the 3-digit ZIP Code groups in L005. Labeling: * * *

* * * * *

8.10.3 USPS Marketing Mail—Bundles, Sacks, or Trays

[Revise the text of the introductory paragraph to read as follows:]

Mailers must prepare pallets under 8.0 in the sequence listed below and complete each required level before preparing the next optional or required level. For USPS Marketing Mail High Density and High Density Plus flats price eligibility, only 5-digit pallets under 8.10.3a through 8.10.3c are allowed, and the pallets must be entered under None, DSCF/DLPC, or DDU or DS&DC standards. (Use “HD/HD+ DIRECT” for one route and “HD/HD+ CR-RTS” for multiple routes on the line 2 contents description). Unless specified as optional, all sort levels are required. For parcels, mailers must use this preparation only for nonstandard parcels in sacks. Mailers must palletize unbundled or unsacked nonstandard parcels under 8.10.8. Pallets must be labeled according to the Line 1 and Line 2 information listed below and under 8.6. Mailers also may palletize bundles of USPS Marketing Mail flats under 10.0, 12.0, or 13.0. Preparation sequence and labeling: * * *

[Revise the introductory text of item (f) to read as follows:]

f. SCF/LPC (letters, flats)/RPDC (parcels), required, permitted for bundles, trays, and sacks (nonstandard parcels only). The pallet may contain carrier-route, automation-price, and/or presorted-price mail for the 3-digit ZIP Code groups in L005. Mailers may, at their option, place AADC trays on SCF/LPC (letters, flats)/RPDC (parcels) pallets when the tray's “label to” 3-digit ZIP Code (from L005) is within that SCF's/LPC's (letters, flats)/RPDC's (parcels) service area. Labeling: * * *

[Revise item (g) to read as follows:]

g. ASF/RPDC, required, permitted for sacks (nonstandard parcels only). Pallet must contain only parcels for the 3-digit ZIP Code groups in L602. Labeling:

1. Line 1: L602.

2. Line 2: “STD NONSTD ASF”, followed by “BARCODED” (or “BC”)

[Revise item (h) to read as follows:]

h. NDC/RPDC, required, permitted for sacks (nonstandard parcels only). Pallet must contain only parcels for the 3-digit ZIP Code groups in L601. Labeling:

1. Line 1: L601.

2. Line 2: “STD NONSTD NDC”, followed by “BARCODED” (or “BC”)

[Revise item (i) to read as follows:]

i. Mixed NDC, optional, permitted for sacks (nonstandard parcels only); allowed with no minimum. Mailers must place sacks (nonstandard parcels only) containing pieces paid at the single-piece price on the mixed NDC/RPDC pallet (unless required to be presented separately by special postage payment authorization). Labeling:

1. Line 1: “MXD” followed by information in L601, Column B, for facility serving 3-digit ZIP Code prefix of entry Post Office (label to plant serving entry Post Office if authorized by processing and distribution manager).

2. Line 2: “STD NONSTD”, followed by “BARCODED” (or “BC”), followed by “WKG”.

[Add an item (j) to read as follows:]

j. Mixed, optional, permitted for bundles and trays; allowed with no minimum and required at 100 pounds of mail for bundles of flats. Bundles of flats totaling less than 100 pounds in weight must be trayed if not palletized. The pallet may contain carrier route, automation, and/or Presorted mail. Mailers must place trays containing pieces paid at the single-piece price on the mixed pallet (unless required to be presented separately by special postage payment authorization). Labeling:

1. Line 1: “MXD WKG”

2. Line 2: “STD FLTS”, followed by “BARCODED” (or “BC”) if pallet contains automation price mail; followed by “NONBARCODED” (or “NBC”) if pallet contains carrier route and/or Presorted price mail; followed by “WKG.” For letters, “STD LTRS”; followed by “BC” if pallet contains barcoded letters; followed by “MACH” if pallet contains machinable letters; followed by “MAN” if pallet contains nonmachinable letters; followed by “WKG.”

* * * * *

[Revise 8.10.4 to read as follows:]

8.10.4 Package Services Flats—Bundles and Sacks

Pallets must be prepared under 8.0 in the sequence listed below and completed at each required level before the next optional or required level is prepared. Unless indicated as optional, all sort levels are required under the conditions shown. Carrier route mail and Presorted price mail with a barcode apply only to Bound Printed Matter mailings. Destination entry price eligibility also applies only to Bound Printed Matter (see 266 for flats). At the mailer's option, all Package Services flats may be prepared for destination entry. For mailings of sacks on pallets, pallet preparation begins with 8.10.4b. Label pallets under 8.6 and according to the Line 1 and Line 2 information listed below:

a. 5-digit scheme carrier routes, required, permitted for bundles only. Pallet must contain only carrier route bundles for the same 5-digit scheme under L001. For 5-digit destinations not part of L001, 5-digit carrier routes pallet preparation begins with 8.10.4b. Labeling:

1. Line 1: L001.

2. Line 2: “PSVC FLTS”; followed by “CARRIER ROUTES” (or “CR-RTS”); followed by “SCHEME” (or “SCH”).

b. 5-digit carrier routes, required, permitted for bundles and sacks. Pallet must contain only carrier route mail for the same 5-digit ZIP Code. Labeling:

1. Line 1: city, state, and 5-digit ZIP Code destination (see 8.6.4c for overseas military mail).

2. Line 2: “PSVC FLTS”; followed by “CARRIER ROUTES” (or “CR-RTS”).

c. 5-digit, required, permitted for bundles and sacks. Pallet must contain only Presorted price mail with or without a barcode for the same 5-digit ZIP Code or same 5-digit scheme under L007 (for automation-compatible flats only under 201.3.0). Five-digit scheme bundles are assigned to pallets according to the “label to” 5-digit ZIP Code in L007. Labeling:

1. Line 1: city, state, and 5-digit ZIP Code destination (see 8.6.4c for overseas military mail).

2. Line 2: “PSVC FLTS 5D”; followed by “BARCODED” (or “BC”) if pallet contains Presorted price mail with a barcode; followed by “NONBARCODED” (or “NBC”) if pallet contains Presorted price mail without a barcode.

d. 3-digit, optional, option not available for bundles for 3-digit ZIP Code prefixes marked “N” in L002. Pallet may contain mail with or without a barcode for the same 3-digit ZIP Code or the same 3-digit scheme under L008 (for automation-compatible flats only under 201.3.0). Three-digit scheme bundles are assigned to pallets according to the “label to” 3-digit ZIP Code in L008. Labeling:

1. Line 1: L002, Column A.

2. Line 2: “PSVC FLTS 3D”; followed by “BARCODED” (or “BC”) if pallet contains Presorted price mail with a barcode; followed by “NONBARCODED” (or “NBC”) if pallet contains carrier route and/or Presorted price mail without a barcode.

e. SCF/LPC, required, permitted for bundles and sacks. The pallet may contain carrier route and/or Presorted price mail with or without a barcode for the 3-digit ZIP Code groups in L005. Labeling:

1. Line 1: L002, Column C.

2. Line 2: “PSVC FLTS SCF”; followed by “BARCODED” (or “BC”) if pallet contains Presorted price mail with a barcode; followed by “NONBARCODED” (or “NBC”) if pallet contains carrier route and/or Presorted price mail without a barcode.

f. Mixed, optional, permitted for sacks only. Pallet may contain carrier route and/or Presorted price mail with or without a barcode. Labeling:

1. Line 1: “MXD WKG”

2. Line 2: “PSVC FLTS WKG.”

[Revise 8.10.5 to read as follows:]

8.10.5 Package Services Nonstandard Parcels—Bundles and Sacks

Pallets must be prepared under 8.0 in the sequence listed below and completed at each required level before the next optional or required level is prepared. Unless indicated as optional, all sort levels are required under the conditions shown. Carrier route (8.10.5a, 8.10.5b, 8.10.5d, and 8.10.5e) applies to Bound Printed Matter mailings only. Destination entry price eligibility applies only to Parcel Select (see 256) and Bound Printed Matter (see 266 for parcels). At the mailer's option, all Package Services nonstandard parcels also may be prepared for destination entry (see 7.0). For mailings of sacks on pallets, pallet preparation begins with 8.10.5e. Label pallets under 8.6 and according to the Line 1 and Line 2 information listed below:

a. Merged 5-digit scheme, required, permitted for bundles only. Pallet must contain carrier route bundles and noncarrier route 5-digit bundles (Presorted price bundles) for the same 5-digit scheme under L001. For 5-digit destinations not part of L001, merged 5-digit pallet preparation begins with 8.10.5d. Labeling:

1. Line 1: L001.

2. Line 2: “PSVC NONSTD CR/5D”; followed by “SCHEME” (or “SCH”).

b. 5-digit scheme carrier routes, required, permitted for bundles only. Pallet must contain only carrier route bundles for the same 5-digit scheme under L001. For 5-digit destinations not part of L001, 5-digit carrier routes pallet preparation begins with 8.10.5e. Labeling:

1. Line 1: L001.

2. Line 2: “PSVC NONSTD”; followed by “CARRIER ROUTES” (or “CR-RTS”); followed by “SCHEME” (or “SCH”).

c. 5-digit scheme, required, permitted for bundles only. Pallet must contain only 5-digit bundles of Presorted price mail for the same 5-digit scheme under L001. For 5-digit destinations not part of L001, 5-digit pallet preparation begins with 8.10.5d. Labeling:

1. Line 1: L001.

2. Line 2: “PSVC NONSTD 5D”; followed by “SCHEME” (or “SCH”).

d. Merged 5-digit, required, permitted for bundles only. Pallet must contain carrier route bundles and noncarrier route 5-digit bundles (Presorted price bundles) for the same 5-digit ZIP Code. Labeling:

1. Line 1: city, state, and 5-digit ZIP Code destination (see 8.6.4c for overseas military mail).

2. Line 2: “PSVC NONSTD CR/5D.”

e. 5-digit carrier routes, required, permitted for bundles and sacks. Pallet must contain only carrier route mail for the same 5-digit ZIP Code. Labeling:

1. Line 1: city, state, and 5-digit ZIP Code destination (see 8.6.4c for overseas military mail).

2. Line 2: “PSVC NONSTD”; followed by “CARRIER ROUTES” (or “CR-RTS”).

f. 5-digit, required, permitted for bundles and sacks. Pallet must contain only Presorted price mail for the same 5-digit ZIP Code. Labeling:

1. Line 1: city, state, and 5-digit ZIP Code destination (see 8.6.4c for overseas military mail).

2. Line 2: “PSVC NONSTD 5D.”

g. 3-digit, optional, option not available for bundles for 3-digit ZIP Code prefixes marked “N” in L002. Pallet must contain parcels only for the same 3-digit ZIP Code. Labeling:

1. Line 1: L002, Column A.

2. Line 2: “PSVC NONSTD 3D.”

h. SCF/RPDC, required, permitted for bundles and sacks. The pallet may contain carrier-route-price and/or Presorted-price mail for the 3-digit ZIP Code groups in L005. Labeling:

1. Line 1: L002, Column C.

2. Line 2: “PSVC NONSTD SCF.”

i. Mixed, optional, permitted for sacks only. The pallet may contain carrier-route-price mail and/or Presorted-price mail. Labeling:

1. Line 1: “MXD WKG”

2. Line 2: “PSVC NONSTD WKG.”

8.10.6 Combined Mailings of USPS Marketing Mail Marketing Parcels 3.5 ounces or more, USPS Marketing Mail, Package Services, and Parcel Select Machinable Parcels

* * * * *

[Revise the text of item (c) to read as follows:]

c. SCF/RPDC, optional, but required for DSCF prices. Pallets must contain only parcels for the 3-digit ZIP Code groups in L005. Labeling:

1. Line 1: L002, Column C.

2. Line 2: “STD/PSVC MACH SCF.”

* * * * *

[Delete item (d) in its entirety and renumber item (e) as item (d). Revise renumbered item (d) to read as follows:]

d. Mixed, optional. Labeling:

1. Line 1: “MXD WKG”

2. Line 2: “STD/PSVC MACH WKG.”

* * * * *

[Revise 8.10.7 to read as follows:]

8.10.7 Machinable Parcels—USPS Marketing Mail, Including Marketing Parcels 3.5 Ounces or More

Mailers who palletize machinable parcels must make pallets or pallet boxes when there are 250 pounds or more for the destination levels below for DSCF or DDU prices. When prepared at origin, a 200-pound minimum is required for the NDC price. Prepare pallets under 8.0 in the sequence below. Unless indicated as optional, all sort levels are required. Label pallets under applicable standards in 8.6 and according to Line 1 and Line 2 information below:

a. 5-digit scheme, required. Pallet must contain parcels for the same 5-digit scheme under L606. For 5-digit destinations not part of L606, prepare 5-digit pallets under 8.10.7b, Labeling:

1. Line 1: Use L606.

2. Line 2: “STD 5D.”

b. 5-digit, required. Pallet must contain parcels only for the same 5-digit ZIP Code. Labeling:

1. Line 1: city, state, and 5-digit ZIP Code destination (see 8.6.4c for overseas military mail).

2. Line 2: “STD 5D.”

c. SCF/RPDC, optional. Allowed only for mail deposited at a DSCF/DRPDC to claim SCF price. Labeling:

1. Line 1: Use L051.

2. Line 2: “STD MACH SCF.”

d. ASF/RPDC, optional. Not available for the Buffalo NY ASF in L602. Pallets must contain only parcels for the 3-digit ZIP Code groups in L602. Labeling:

1. Line 1: Use L602.

2. Line 2: “STD MACH ASF.”

e. NDC/RPDC, required. Pallets must contain only parcels for the 3-digit ZIP Code groups in L601. Labeling:

1. Line 1: Use L601.

2. Line 2: “STD MACH NDC.”

f. Origin NDC/RPDC (required); no minimum; labeling:

1. Line 1: L601, Column B.

2. Line 2: “STD MACH NDC.”

g. Mixed NDC, optional; no minimum. Labeling:

1. Line 1: “MXD” followed by information in L601, Column B, for facility serving 3-digit ZIP Code prefix of entry Post Office (or labeled to plant serving entry Post Office if authorized by processing and distribution manager).

2. Line 2: “STD MACH WKG.”

[Revise 8.10.8 to read as follows:]

8.10.8 Nonstandard Parcels Weighing 2 Ounces or More—USPS Marketing Mail, Including Marketing Parcels

Mailers who palletize unbundled or unsacked nonstandard parcels must make pallets or pallet boxes when there are 250 pounds or more for the destination levels below for DSCF or DDU prices. When pallets or pallet boxes are prepared at origin, a 200-pound minimum is required for the NDC price. Mailers must prepare pallets or pallet boxes of nonstandard parcels (except tubes, rolls, and similar pieces) weighing 2 ounces or more under 8.0 and in the sequence listed below. Mailers must label pallets or pallet boxes according to the Line 1 and Line 2 information listed below and under 8.6. Mailers may not prepare tubes, rolls, and similar pieces or pieces that weigh less than 2 ounces on pallets or in pallet boxes, except for pieces in carrier-route bundles or in sacks under 8.10.3. Preparation sequence and labeling:

a. 5-digit scheme, required. Pallet or pallet box must contain parcels only for the same 5-digit scheme under L606. For 5-digit destinations not part of L606 prepare 5-digit pallets under 8.10.8b. Labeling:

1. Line 1: Use L606.

2. Line 2: “STD NONSTD 5D”; followed by “SCHEME” (or “SCH”).

b. 5-digit, required. Pallet or pallet box must contain parcels only for the same 5-digit ZIP Code. Labeling:

1. Line 1: city, state, and 5-digit ZIP Code destination (see 8.6.4c for overseas military mail).

2. Line 2: “STD NONSTD 5D.”

c. SCF/RPDC, required. Allowed only for mail deposited at a DSCF/DRPDC to claim SCF price. labeling:

1. Line 1: Use L002, Column C.

2. Line 2: Use “STD NONSTD SCF.”

d. ASF/RPDC, optional. Not available for the Buffalo, New York, ASF in L602. Pallets must contain only parcels for the 3-digit ZIP Code groups in L602. Labeling:

1. Line 1: L602.

2. Line 2: “STD NONSTD ASF.”

e. NDC/RPDC, required. Pallets must contain only parcels for the 3-digit ZIP Code groups in L601. Labeling:

1. Line 1: L601.

2. Line 2: “STD NONSTD NDC.”

f. Origin NDC/RPDC (required); no minimum; labeling:

1. Line 1: L601, Column B.

2. Line 2: “STD NONSTD NDC.”

g. Mixed NDC, optional. Labeling:

1. Line 1: “MXD” followed by information in L601, Column B, for facility serving 3-digit ZIP Code prefix of entry Post Office (or labeled to plant serving entry Post Office if authorized by processing and distribution manager).

2. Line 2: “STD NONSTD WKG.”

8.11 Bundle Reallocation To Protect SCF/LPC/RPDC Pallet for Periodicals Flats and Nonstandard Parcels and USPS Marketing Mail Flats on Pallets

8.11.1 Basic Standards

The following apply: * * *

[Revise item (c) to read as follows:]

a. Reallocation is performed only when there is mail for the SCF/LPC (letters, flats)/RPDC (parcels) service area that would fall beyond the SCF/LPC (letters, flats)/RPDC (parcels) pallet level (e.g., to an ADC pallet).

* * * * *

8.11.3 Reallocation of Bundles if Optional 3-Digit Pallets Are Prepared

Reallocation rules are as follows: * * *

[Revise the last sentence of item (d) to read as follows:]

d. * * * Mail that falls beyond the SCF/RPDC pallet level must be placed on the next appropriate pallet (ADC or Mixed) or in the next appropriate sack (nonstandard parcels) or flat tray.

8.11.4 Reallocating of Bundles if Optional 3-Digit Pallets Are Not Prepared

Reallocation rules are as follows: * * *

[Revise the last sentence of item (b) to read as follows:]

b. * * * Mail that falls beyond the SCF/RPDC pallet level must be placed on the next appropriate pallet (ADC or Mixed) or in the next appropriate sack (nonstandard parcels) or flat tray.

* * * * *

[Delete 8.13 in its' entirety; renumber 8.14 through 8.20 as 8.13 through 8.19 respectively;]

* * * * *

[Renumbered 8.13]

8.13 Pallets of Bundles, Sacks, and Trays

* * * * *

[Delete renumbered 8.13.3 and 8.13.4 in its' entirety and renumber 8.13.5 as 8.13.3:]

* * * * *

[Renumbered 8.13.3]

8.13.3 Securing Trays

The following apply:

a. Trays must be sleeved and strapped under the following: * * *

[Revise item a(5) to read as follows:]

5. 265.3.0 for Bound Printed Matter flats.

[Delete item a(6) in its' entirety:]

* * * * *

[Renumbered 8.16]

8.16 Pallets of Machinable Parcels

[Delete item 8.16.1 in its' entirety; renumber 8.16.2 as 8.16.1:]

* * * * *

9.0 Combining Bundles of Automation and Nonautomation Flats in Flat Trays and Sacks

[Delete 9.1 in its' entirety; renumber sections 9.2 through 9.4 as 9.1 through 9.3 respectively:]

* * * * *

10.0 Merging Bundles of Flats Using the City State Product

* * * * *

10.2 USPS Marketing Mail

* * * * *

10.2.5 Pallet Preparation and Labeling

* * * * *

[Delete items (h) and (i) in its' entirety; renumber item (j) as (h):]

[Revise renumbered item (h) to read as follows:]

h. Mixed, optional, allowed with no minimum and required at 100 pounds of mail for bundles of flats. Bundles of flats totaling less than 100 pounds in weight must be trayed if not palletized. The pallet may contain carrier route, automation, and/or Presorted mail. Mailers must place trays containing pieces paid at the single-piece price on the mixed pallet (unless required to be presented separately by special postage payment authorization). Labeling:

1. Line 1: “MXD” followed by information in L601, Column B

2. Line 2: “STD” followed by “FLTS”; followed by “BARCODED” (or “BC”) if pallet contains automation price mail; followed by “NONBARCODED” (or “NBC”) if pallet contains carrier route and/or Presorted price mail; followed by “WKG.”

* * * * *

11.0 Combining Automation Price and Nonautomation Price Flats in Bundles

[Delete 11.1 in its' entirety; renumber sections 11.2 through 11.4 as 11.1 through 11.3 respectively:]

* * * * *

12.0 Merging Bundles of Flats on Pallets Using a 5 Percent Threshold

* * * * *

12.2 USPS Marketing Mail

* * * * *

12.2.3 Pallet Preparation and Labeling

* * * * *

[Delete items (h) and (i) in its' entirety; renumber item (j) as (h):]

[Revise renumbered item (h) to read as follows:]

h. Mixed, optional, allowed with no minimum and required at 100 pounds of mail for bundles of flats. Bundles of flats totaling less than 100 pounds in weight must be trayed if not palletized. The pallet may contain carrier route, automation, and/or Presorted mail. Mailers must place trays containing pieces paid at the single-piece price on the mixed pallet (unless required to be presented separately by special postage payment authorization). Labeling:

1. Line 1: “MXD” followed by information in L601, Column B

2. Line 2: “STD” followed by “FLTS”; followed by “BARCODED” (or “BC”) if pallet contains automation price mail; followed by “NONBARCODED” (or “NBC”) if pallet contains carrier route and/or Presorted price mail; followed by “WKG.”

* * * * *

13.0 Merging Bundles of Flats on Pallets Using the City State Product and a 5-Percent Threshold

* * * * *

13.2 USPS Marketing Mail

* * * * *

13.2.4 Pallet Preparation and Labeling

* * * * *

[Delete items (h) and (i) in its' entirety; renumber item (j) as (h):]

[Revise renumbered item (h) to read as follows:]

h. Mixed, optional, allowed with no minimum and required at 100 pounds of mail for bundles of flats. Bundles of flats totaling less than 100 pounds in weight must be trayed if not palletized. The pallet may contain carrier route, automation, and/or Presorted mail. Mailers must place trays containing pieces paid at the single-piece price on the mixed pallet (unless required to be presented separately by special postage payment authorization). Labeling:

1. Line 1: “MXD” followed by information in L601, Column B

2. Line 2: “STD” followed by “FLTS”; followed by “BARCODED” (or “BC”) if pallet contains automation price mail; followed by “NONBARCODED” (or “NBC”) if pallet contains carrier route and/or Presorted price mail; followed by “WKG.”

* * * * *

15.0 Combining USPS Marketing Mail Flats, Bound Printed Matter Flats, and Periodicals Flats

15.1 Basic Standards

15.1.1 General

* * * * *

[Revise item (g) to read as follows:]

g. When residual pieces are included in a combined mailing of USPS Marketing Mail flats and Periodicals flats on pallets, these pieces must be bundled and placed directly on mixed pallets.

* * * * *

15.1.10 Other Periodicals Pricing

Other prices for Periodicals flats in a combined mailing of USPS Marketing Mail and Periodicals flats on pallets will be assessed as follows:

[Delete items (a) and (b); renumber items (c) through (e) as (a) through (c) respectively:] [Revise renumbered (a) through (c) to read as follows:]

a. The bundle price applicable to the ADC bundle placed on the ADC container level will apply to mixed ADC bundles placed on mixed pallets.

b. The container price applicable to the mixed ADC pallet level will apply to the mixed pallet level.

c. The bundle price applicable to the 5-digit bundle placed on the mixed ADC container level will apply to carrier route bundles placed on mixed pallets.

[Revise 15.1.11 to read as follows:]

15.1.11 Bundle Reallocation to Protect the SCF/LPC Pallet

Mailers may reallocate bundles under 8.11 to protect the SCF/LPC pallet.

* * * * *

15.2 Combining USPS Marketing Mail Flats, Bound Printed Matter Flats, and Periodicals Flats in the Same Bundle

* * * * *

15.2.3 Pallet Presort and Labeling

[Revise the second sentence of 15.2.3 to read as follows:]

* * * Merged 5-digit scheme through SCF pallets must contain at least 250 pounds of combined USPS Marketing Mail and Periodicals mailpieces, except as allowed under 8.5.3. * * *

15.3 Combining Bundles of USPS Marketing Mail Flats, Bound Printed Matter Flats, and Periodicals Flats on the Same Pallet

* * * * *

15.3.3 Pallet Presort and Labeling

[Revise the second sentence of 15.3.3 to read as follows:]

* * * Merged 5-digit scheme through SCF pallets must contain at least 250 pounds of combined USPS Marketing Mail and Periodicals, except as allowed under 8.5.3. * * *

* * * * *

15.4 Pallet Preparation

15.4.1 Pallet Preparation, Sequence and Labeling

[Revise 15.4.1 to read as follows:]

When combining USPS Marketing Mail, Bound Printed Matter, and Periodicals flats within the same bundle or combining bundles of USPS Marketing Mail flats, Bound Printed Matter flats and bundles of Periodicals flats on pallets, bundles must be placed on pallets. For labeling, “STD/BPM/PER FLTS”, as applicable' means to label each individual pallet based on the classes of mailpieces on that individual pallet. As an example, in a combined mailing of USPS Marketing Mail, Bound Printed Matter, and Periodicals flats, some pallets may be labeled “STD/BPM/PER” while others might properly be labeled “STD/BPM,” “STD/PER,” “BPM/PER,” or even “STD,” “BPM,” or “PER.” Preparation, sequence and labeling:

a. 5-digit scheme carrier routes, required. Pallet must contain only carrier route bundles for the same 5-digit scheme under L001. For 5-digit destinations not part of L001, 5-digit carrier routes pallet preparation begins with 15.4.1c. Labeling:

1. Line 1: L001.

2. Line 2: “STD/BPM/PER FLTS”; followed by “CARRIER ROUTES” (or “CR-RTS”); followed by “SCHEME” (or “SCH”); followed by “MIX COMAIL.”

b. Merged 5-digit scheme, optional. Not permitted for bundles containing noncarrier route automation-compatible flats under 201.6.0. Required for all other bundles. Pallet must contain carrier route bundles and noncarrier route 5-digit bundles (Presorted bundles only) for the same 5-digit scheme under L001. For 5-digit destinations not part of L001, merged 5-digit pallet preparation begins with 15.4.1d. Labeling:

1. Line 1: L001.

2. Line 2: “STD/BPM/PER FLTS CR/5D;” followed by “SCHEME” (or “SCH”); followed by “MIX COMAIL.”

c. Merged 5-digit, optional. Not permitted for bundles containing noncarrier route automation-compatible flats under 201.6.0. Required for all other bundles. Pallet must contain carrier route bundles and noncarrier route 5-digit bundles (Presorted bundles only) for the same 5-digit ZIP Code. Labeling:

1. Line 1: city, state, and 5-digit ZIP Code destination (see 8.6.4c for overseas military mail).

2. Line 2: “STD/BPM/PER FLTS”; followed by “CR/5D”; followed by “MIX COMAIL.”

d. 5-digit carrier routes, required. Pallet must contain only carrier route mail for the same 5-digit ZIP Code. Labeling:

1. Line 1: city, state, and 5-digit ZIP Code destination (see 8.6.4c for overseas military mail).

2. Line 2: “STD/BPM/PER FLTS”; followed by “CR/5D”; followed by “MIX COMAIL.”

e. 5-digit, required. Pallet must contain only mail for the same 5-digit ZIP Code or same 5-digit scheme under L007 (for automation flats only under 201.6.0). 5-digit scheme bundles are assigned to 5-digit pallets according to the OEL “label to” 5-digit ZIP Code. Labeling:

1. Line 1: city, state, and 5-digit ZIP Code destination (see 8.6.4c for overseas military mail).

2. Line 2: “STD/BPM/PER FLTS 5D”; followed by “BARCODED” (or “BC”); “NONBARCODED” (or “NBC”) for Presorted mail, or “BARCODED/NONBARCODED” (or “BC/NBC”) for pallets including both barcoded and Presorted pieces; followed by “MIX COMAIL.”

f. 3-digit, optional, but not available for bundles for 3-digit ZIP Code prefixes marked “N” in L002. Pallet may contain mail for the same 3-digit ZIP Code or the same 3-digit scheme under L008 (for automation-compatible flats only under 201.6.0). Three-digit scheme bundles are assigned to pallets according to the OEL “label to” 3-digit ZIP Code in L008. Labeling:

1. Line 1: L002, Column A.

2. Line 2: “STD/BPM/PER FLTS 3D”; followed by “BARCODED” (or “BC”); “NONBARCODED” (or “NBC”) for Presorted mail, or “BARCODED/NONBARCODED” (or “BC/NBC”) for pallets including both barcoded and Presorted pieces; followed by “MIX COMAIL.”

g. SCF/LPC, required. Pallet may contain carrier route, automation or Presorted mail for the 3-digit ZIP Code groups in L005. Labeling:

1. Line 1: L002, Column C.

2. Line 2: “STD/BPM/PER FLTS SCF”; followed by “BARCODED” (or “BC”); “NONBARCODED” (or “NBC”) for Presorted mail, or “BARCODED/NONBARCODED” (or “BC/NBC”) for mixed pallets; followed by “MIX COMAIL.”

h. Mixed, required, 100 pound minimum. Pallet may contain carrier-route, automation or presorted mail. Pallet includes MXD ADC bundles, prepared according to the “label to” ZIP in L009, as appropriate. Unless authorized by the processing and distribution manager, pallet must be entered at the NDC/RPDC serving the 3-digit ZIP Code of the entry Post Office. Labeling:

1. Line 1: Use “MXD” followed by the information in L601, for the facility serving the 3-digit ZIP Code prefix of the entry Post Office.

2. Line 2: “STD/BPM/PER FLTS;” followed by “BARCODED” (or “BC”); “NONBARCODED” (or “NBC”) for Presorted mail, or “BARCODED/NONBARCODED” (or “BC/NBC”) for mixed pallets; followed by “WKG;” followed by “MIX COMAIL.”

* * * * *

16.0 Plant-Load Mailings

* * * * *

16.7 Interdistrict Plant-Loaded Shipments

* * * * *

16.7.4 USPS Marketing Mail, Parcel Select, and Package Services

[Revise 16.7.4 to read as follows:]

For plant-loaded shipments of USPS Marketing Mail, Parcel Select, and Package Services, if there is enough mail for the same SCF/LPC (letters, flats)/RPDC (parcels) service area to fill 60 percent or more of a vehicle by weight or by cube (a minimum of 28,000 pounds or 2,000 cubic feet), the mailer must prepare a direct vehicle for that SCF/LPC (letters, flats)/RPDC (parcels).

* * * * *

16.7.7 Sufficient Volume

[Delete item (c) in its' entirety:]

* * * * *

21.0 Optional Combined Parcel Mailings

21.1 Basic Standards for Combining Parcel Select, Package Services, and USPS Marketing Mail Parcels

21.1.1 Basic Standards

Package Services parcels, Parcel Select parcels, and USPS Marketing Mail parcels in a combined parcel mailing must meet the following standards:

* * * * *

d. Combined mailings must meet the following minimum volume requirements: * * *

[Revise item d(3) to read as follows:]

1. Presorted BPM—Minimum 300 parcels.

* * * * *

21.2 Price Eligibility

21.2.1 Eligible Prices

[Revise 21.2.1 to read as follows:]

Combined parcels may be eligible for USPS Marketing Mail, Parcel Select, single-piece Media Mail, single-piece Library Mail, single-piece and Presorted Bound Printed Matter, and destination entry prices and discounts as applicable.

21.2.2 Price Application

[Revise 21.2.2 to read as follows:]

Apply prices based on the criteria in 200 and the following standards:

a. USPS Marketing Mail and Parcel Select parcel prices are based on the container level and entry (see 243.5.0 and 253).

b. Bound Printed Matter (BPM) parcels qualify for single-piece prices or Presorted Bound Printed Matter prices as follows:

1. Presorted prices for BPM pieces prepared in other than MXD ADC and MXD containers when the combined mailing contains at least 300 pieces of BPM.

2. Nonpresorted prices for pieces prepared in MXD ADC and MXD containers, and when the combined mailing contains less than 300 pieces of BPM.

3. Destination entry prices based on entry.

c. Media Mail parcels qualify for single-piece prices for pieces prepared in MXD ADC or MXD containers, and when the combined mailing contains less than 300 pieces of Media Mail.

c. Library Mail parcels qualify for single-piece prices for pieces in MXD ADC or MXD containers, and when the combined mailing contains less than 300 pieces of Library Mail.

d. Parcel Select prices are based on the destination entry for pieces in 5-digit, 3-digit, or ADC containers.

* * * * *

21.3 Mail Preparation

* * * * *

21.3.2 Combining USPS Marketing Mail, Parcel Select, and Package Services Machinable Parcels

Prepare and enter USPS Marketing Mail, Parcel Select, and Package Services machinable parcels, and USPS Marketing Mail Marketing parcels 6 ounces or more, as combined machinable parcels as shown in the table below.

[Revise the table in 21.3.2 to read as follows:]

Combined Preparation
|  | Mixed
Entry | 5-Digit/Scheme ¹ | (Required).
Origin | Sacks—15-piece or 30-lb minimum | Sacks—No minimum.
| Pallets—250-lb minimum. | Pallets—250-lb minimum.
DSCF | Sacks—10-piece or 10-lb minimum
| Pallets—100-lb minimum
DDU/DS&DC | Sacks—No minimum
| Pallets—No minimum
¹ All parcel types may be combined in 5-digit containers to meet minimum volumes.

21.3.3 Combining USPS Marketing Mail, Parcel Select, and Package Services APPS-Machinable Parcels

Prepare and enter USPS Marketing Mail, Parcel Select, and Package Services nonstandard parcels, that are not tubes, rolls, triangles, or similarly nonstandard-shaped parcels) as combined APPS-machinable parcels as shown in the table below.

[Revise the table in 21.3.3 to read as follows:]

Combined Preparation
|  | 3-Digit | ADC | Mixed ADC
Entry | 5-Digit/Scheme ¹ | (Required) | (Required) | (Required).
Origin | Sacks—15-piece or 30-lb minimum | Sacks—10-piece or 20-lb minimum | Sacks—10-piece or 20-lb minimum | Sacks—No minimum.
| Pallets—250-lb minimum | Pallets—250-lb minimum | Pallets—250-lb minimum | Pallets—250-lb minimum.
DSCF | Sacks—10-piece or 10-lb minimum | Sacks—10-piece or 20-lb minimum
| Pallets—100-lb minimum | Pallets—100-lb minimum
DDU/DS&DC | Sacks—No minimum
| Pallets—No minimum
¹ All parcel types may be combined in 5-digit containers to meet minimum volumes.

* * * * *

21.3.4 Combining USPS Marketing Mail, Parcel Select, and Package Services Parcels (Not APPS-Machinable)

Prepare and enter USPS Marketing Mail, Parcel Select, and Package Services parcels, and USPS Marketing Mail Marketing parcels under 2 ounces, as combined not APPS-machinable parcels as shown in the table below.

[Revise the table in 21.3.4 to read as follows:]

Combined Preparation
|  | 3-Digit | ADC | Mixed ADC
Entry | 5-Digit/Scheme ¹ | (Required) | (Required) | (Required).
Origin | Sacks—15-piece or 30-lb minimum | Sacks—10-piece or 20-lb minimum | Sacks—10-piece or 20-lb minimum | Sacks—No minimum.
| Pallets—250-lb minimum | Pallets—250-lb minimum | Pallets—250-lb minimum | Pallets—250-lb minimum.
DSCF | Sacks—10-piece or 10-lb minimum | Sacks—10-piece or 20-lb minimum
| Pallets—100-lb minimum | Pallets—100-lb minimum
DDU/DS&DC | Sacks—No minimum
| Pallets—No minimum
¹ All parcel types may be combined in 5-digit containers to meet minimum volumes.

Colleen Hibbert-Kapler,
Attorney, Ethics and Legal Compliance.

[FR Doc. 2025-10462 Filed 6-9-25; 8:45 am]

BILLING CODE P